DEPARTMENT OF HOMELAND SECURITY

Coast Guard

33 CFR Parts 1, 3, 8, 13, 19, 23, 25, 26, 27, 51, 52, 67, 80, 81, 84, 89, 96, 104, 105, 110, 114, 116, 117, 118, 120, 126, 127, 128, 135, 140, 141, 144, 148, 151, 153, 154, 155, 156, 157, 158, 159, 160, 161, 164, 165, 167, 169, 174, 179, 181, and 183

[Docket No. USCG-2014-0410]

RIN 1625-AC13

Navigation and Navigable Waters; Technical, Organizational, and Conforming Amendments

AGENCY: Coast Guard, DHS.

ACTION: Final rule.

SUMMARY: This final rule makes non-substantive changes throughout Title 33 of the Code of Federal Regulations. The purpose of this final rule is to make conforming amendments and technical corrections to Coast Guard navigation and navigable waters regulations. These changes will have no substantive effect on the regulated public.

DATES: This final rule is effective July 7, 2014.

ADDRESSES: Documents mentioned in this preamble as being available in the docket are part of docket USCG-2014-0410 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0974 in the “Search” box, and then clicking “Search.”

FOR FURTHER INFORMATION CONTACT: If you have questions on this final rule, call or email Mr. Paul Crissy, Coast Guard; telephone 202-372-1093, email Paul.H.Crissy@uscg.mil. If you have questions on viewing the docket, call Ms. Cheryl Collins, Program Manager, Docket Operations, telephone 202-366-9826.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

DHS Department of Homeland Security

E.O. Executive Order

FR Federal Register

NOAA National Oceanic and Atmospheric Administration

OMB Office of Management and Budget

Pub. L. Public Law

§ Section symbol

U.S.C. United States Code

II. Regulatory History

The Coast Guard did not publish a notice of proposed rulemaking for this final rule. Under 5 U.S.C. 553(b)(A), this final rule is exempt from notice and comment rulemaking requirements because the changes in this final rule involve rules of agency organization, procedure, or practice. Also, notice and comment procedures are unnecessary under 5 U.S.C. 553(b)(B) because this final rule consists only of corrections and editorial, organizational, and conforming amendments; these changes will have no substantive effect on the public. Under 5 U.S.C. 553(d)(3), we find that, for the same reasons, good cause exists for making this final rule effective upon publication in the Federal Register.

III. Basis and Purpose

Each year, the printed edition of Title 33 of the Code of Federal Regulations (CFR) is re-codified on July 1st. This final rule, which becomes effective July 7, 2014 makes technical and editorial corrections throughout Title 33. This final rule does not create any substantive requirements. This final rule is issued under the authority of 5 U.S.C. 552, 553, App. 2, 14 U.S.C. 2, 631, 632, and 633; 33 U.S.C. 471, 499; 49 U.S.C. 101, 322; Department of Homeland Security Delegation No. 0170.1.

IV. Discussion of the Rule

This final rule amends various internal Coast Guard office titles and office symbols throughout Title 33. These changes reflect the nomenclature that was implemented by the Deputy Commandant for Operations 3.0 realignment, effective May 6, 2012. Functional requirements, organizations and reporting structures are not affected by this final rule.

This final rule also updates various addresses for Coast Guard offices throughout Title 33 in order to conform to new mailing addresses that came into effect upon the relocation of Coast Guard Headquarters to the Saint Elizabeths campus in 2013. For a list of each address change, see the Table of Changes in the docket for this rulemaking.

This final rule amends 33 CFR 3.05-20 to correct the location of the U.S. Coast Guard's Sector Southeastern New England office to reflect Woods Hole, MA. After the Coast Guard's sector realignment occurred in 2007, the location of Coast Guard Sector Southeastern New England was intended to be Providence, RI. However, this relocation never occurred and Sector Southeastern New England's office location remains in Woods Hole, MA.

This final rule amends 33 CFR 3.40-28 to correct the location of the U.S. Coast Guard's Sector Houston-Galveston's office to reflect Houston, TX.

This final rule amends 33 CFR 27.3, Table 1 to update statutory citations that changed as a result of recodification. 46 U.S.C. App. 1505 was recodified at 46 U.S.C. 80509; 46 U.S.C. App. 1712(a) was recodified at 46 U.S.C. 41107 and 46 U.S.C. 1805 was recodified at 46 U.S.C. 70305. This rule does not change the adjusted maximum penalty amounts contained in Table 1 of 33 CFR 27.3.

This final rule amends 33 CFR 52.21(a) by changing the title of the reviewing authority for the correction of military records to reflect the Coast Guard's transfer from the Department of Transportation to the Department of Homeland Security.

This final rule amends 33 CFR 80.160(c) to redefine a specific COLREGS demarcation line to reflect the updated National Oceanic and Atmospheric Administration (NOAA) survey necessitated by the destruction of the Fire Island Inlet Breakwater Light by Hurricane Sandy.

This final rule amends 33 CFR 80.712 by redesignating paragraph (a) as paragraph (b). A review of the COLREGS demarcation line found that paragraphs (a) and (b) both described the Stono Inlet demarcation line, while there was no existing description of the line across Lighthouse Inlet. A new paragraph (a) is added to describe the line across Lighthouse Inlet using the latitude and longitude coordinates for aids to navigation depicted by NOAA on charts. Additionally, new paragraph (b) now reflects a change to the aids to navigation in Stono Inlet because the daybeacon previously referenced has been replaced by a buoy.

This final rule amends 33 CFR 80.815(b) by adding the latitude and longitude coordinates for the reference points Mobile Point Light and Dauphin Island Channel Light 1 and by removing “No.” from the title of the Dauphin Island Channel Light 1. This change conforms the name to the one published in the Light List.

This final rule amends 33 CFR 80.1420 by adding the latitude and longitude coordinates for the reference points for Barbers Point Light and Diamond Head Light.

This final rule amends 33 CFR 80.1430 by adding the latitude and longitude coordinates for the reference point Pyramid Rock Light.

This final rule amends 33 CFR 80.1440 to update the name of a light listed as a reference point. The light previously referred to as “Hanapepe Light” is now referred to as “Puolo Point Light.” The name change reflects the updated name in the Light List.

This final rule amends 33 CFR 80.1450 to add the longitude and latitude coordinates for the reference point Kukii Point Light. It also corrects the reference to “Nawiliwili Harbor Breakwater Light” because that light has been disestablished. The new text has been updated to read as follows: “A line drawn from the seaward extremity of Nawiliwili Harbor breakwater to 21°57′23.8″ N., 159°20′52.7″ W. (Kukii Point Light).”

This final rule amends 33 CFR 80.1460 to update the names of the lights listed as reference points. The lights previously listed as “Kahului Harbor Entrance East Breakwater Light” and “Kahului Harbor Entrance West Breakwater Light” are amended to reflect the names listed in the Light List, which are “Kahului Entrance Breakwater Light 4” and “Kahului Entrance Breakwater Light 3.” We are also amending 33 CFR 80.1460 by adding the latitude and longitude coordinates for Kahului Entrance Breakwater Light 4 and Kahului Entrance Breakwater Light 3.

This final rule amends 33 CFR 80.1470 to add the longitude and latitude coordinates for the reference point Kawaihae Light.

This final rule makes a spelling correction to 33 CFR 89.25(h). Previously, “Chattahoochee” was misspelled. This final rule corrects the spelling of this river.

This final rule corrects the authority citation in 33 CFR 110.1 by deleting the references to 33 U.S.C. 2030 and 2035, which were repealed in 2004 by Section 303(a) of the Coast Guard and Maritime Transportation Act of 2004 (Pub. L. 108-293). The authority to issue Inland Navigation Rules can be found in section 3 of the Inland Navigational Rules Act of 1980, as amended by section 303(b) of the Coast Guard and Maritime Transportation Act of 2004 (33 U.S.C. 2071). We are also amending 33 CFR 110.1(a) by removing the repealed statutes and inserting the correct citation to the Inland Navigation Rules, 33 CFR Chapter I, Subchapter E.

This final rule removes 33 CFR 110.25(f) and its Note, which are duplicative of 33 CFR 110.26.

This final rule amends 33 CFR 110.59(c) to reflect the correct coordinates of the Northport Harbor anchorage in Eastern Long Island, NY. The previous language in this paragraph erroneously identified coordinates that are outside of Northport Harbor. We are also adding a minor clarification to the coordinates by indicating north latitude and west longitude.

This final rule amends 33 CFR 110.72d to represent latitude and longitude coordinates in a format that includes degrees, minutes, and seconds.

This final rule amends 33 CFR 117.35 by replacing the word “closure” with the word “deviation” because not all changes are closures. Requests for temporary changes to the operating schedule of a drawbridge require the approval of the cognizant District Commander. The word “deviation” is replacing the word “closure” to reflect the requirement in the regulation that all changes, including closures, must be authorized.

This final rule amends 33 CFR 117.143 by adding the commonly used name “Eight Mile Road” to describe the San Joaquin County Highway Bridge.

This final rule amends 33 CFR 117.233 by updating the name of the bridge referenced in this section because of a change in ownership. The bridge formerly known as the “Conrail Bridge” in this section is now named the “Norfolk Southern Railroad Bridge.”

This final rule amends 33 CFR 117.243(a)(3) by updating the telephone number that owners or operators of vessels can call to get train operational information.

This final rule amends 33 CFR 117.531(b) by changing the mile mark location from “mile 3.5” to “mile 1.9.” Under the standard convention for bridge marking locations on U.S. rivers, mile markers reflect the distance to the mouth of the applicable river. The “3.5”mile mark previously listed reflected the distance to the ocean. The corrected “1.9” mile mark reflects the distance to the mouth of the Piscataqua River.

This final rule amends 33 CFR 117.531(c) by changing the mile mark location from “mile 4.0” to “mile 2.5.” Under the standard convention for bridge markings locations on U.S. rivers, mile markers reflect the distance to the mouth of the applicable river. The “4.0” mile mark previously listed reflected the distance to the ocean. The corrected “2.5” mile mark reflects the distance to the mouth of the Piscataqua River.

This final rule amends 33 CFR 117.997(a)(11) by updating the telephone numbers that owners or operators of vessels can call to get bridge operational information.

This final rule amends 33 CFR 118.3(c) by updating the address of the Federal Highway Administration.

This final rule amends 33 CFR 126.21(d) to correct a citation. The reference to 33 CFR 126.15(g) for the use of maintenance stores and supplies is incorrect. 33 CFR 126.15(g) does not exist. We have amended this section by removing the incorrect citation and inserting the correct citation: 33 CFR 126.15(b)(5).

This final rule amends 33 CFR 155.1030(i)(1) by reinserting paragraph (c)(11) and removing paragraph (c)(9). In the 2013 printed edition of Title 33 CFR, paragraph (c)(11) was properly included in this section. On September 30, 2013, however, a final rule was published that amended 33 CFR 155.1030(i)(1) through (3) solely for the purpose of authorizing electronic copies of Vessel Response Plans (78 FR 60100, 60122). Because of an administrative error in that final rule, paragraph (c)(11) was unintentionally removed from 33 CFR 155.1030(i)(1), and we are correcting that error by reinserting (c)(11). We are also removing paragraph(c)(9) from 33 CFR 155.1030(i)(1) because that specific section of the VRP plan is a requirement for unmanned tank barges and is already included under 33 CFR 155.1030(i)(2).

This final rule amends 33 CFR 155.1070(a)(2) by removing the words “and to document the annual review required by this paragraph (a).” When this final rule was published on September 30, 2013 (78 FR 60100, 60105), the Coast Guard explained that it was removing the requirement pertaining to the reporting of annual reviews from 33 CFR 155.1070(a), consistent with 33 CFR 151.28(h) and 155.5070(a). Because of an administrative error, however, the regulation was not amended as described. We are correcting that error in this final rule by removing the words “and to document the annual review required by this paragraph (a).”

This final rule amends 33 CFR 155.5020(5)(i) by removing the word “and” and adding the word “or” in its place. 33 CFR 155.5020 provides a list of definitions applicable to 33 CFR Subpart J. Changing “and” to “or” under the definition for “Contract or other approved means” provided in 33 CFR 155.5020(5)(i) more accurately reflects the substance of the regulations contained in 33 CFR Subpart J. For example, in 33 CFR 155.5020(5)(ii)-(v), the regulation uses the phrase “petroleum oils as fuel or cargo.” And, in 33 CFR 155.5035(i)(7),(9), the regulation uses the phrase “petroleum oils as fuel or cargo.” Finally, in 33 CFR 155.5050(e)(1) and (f),(l),(m),(n), the regulation uses the phrase “petroleum oil as fuel or cargo.” We are, therefore, correcting 33 CFR 155.5020(5)(i) by removing the word “and” and adding the word “or” in its place.

This final rule amends the table for 33 CFR 155.5050(p) by removing the word “and” and adding the word “or” in its place. 33 CFR 155.5050(p) is a table that summarizes the VRP required response resources for nontank vessels carrying groups I through IV petroleum oil. Changing the table's first column header from “Nontank vessel's fuel and cargo oil capacity” to “Nontank vessel's fuel or cargo oil capacity” more accurately reflects the substance of the regulations contained in 33 CFR Subpart J. For example, in 33 CFR 155.5020(5)(ii)-(v), the regulation uses the phrase “petroleum oils as fuel or cargo.” And, in 33 CFR 155.5035(i)(7),(9), the regulation uses the phrase “petroleum oils as fuel or cargo.” Finally, in 33 CFR 155.5050(e)(1) and (f),(l),(m),(n), the regulation uses the phrase “petroleum oil as fuel or cargo.” The table's first column header is, therefore, incorrect. We are correcting it in this rule by removing the word “and” and adding the word “or” in its place.

This final rule amends the Table in 33 CFR 161.12(c) to correct a typographical error in the longitude position for the waters east and north of a line drawn from the southern tangent of Sakonnet Point, Rhode Island. The text has been updated with the correct longitude coordinate as follows: “longitude 71°11.70′ W.”

This final rule amends 33 CFR 161.12(d)(5). Because of a clerical error, this section mistakenly cites to 160.203 for the definition of “hazardous condition.” This section, however, does not include a definition for “hazardous condition.” Therefore, we are correcting that error to reflect that the citation for the definition of “hazardous condition” is found in 33 CFR 160.204.

This final rule revises 33 CFR 161.55(c) by separating the requirements pertaining to “meeting and overtaking” and those for “crossing or operating” into separate sub-paragraphs. By restructuring the regulation into separate sub-paragraphs, we are making it easier for users of VTS Puget Sound to understand that “meeting and overtaking within 2,000 yards” and “crossing or operating within 2,000 yards” are to be treated separately. These changes are editorial and do not alter the VTS Special Area Operating Requirements prescribed in 33 CFR 161.55(c).

This final rule amends 33 CFR 165.117(a)(3)(ii) to include the geographic coordinates forming the loci for the regulated navigation areas, safety and security zones for Neptune Deepwater Port. The Coast Guard published an NPRM on April 1, 2010 (75 FR 16370), that proposed establishing regulated navigation areas and safety and security zones around the recently constructed Neptune Deepwater Port Facility. No comments or suggestions were made to the proposed rule, and on August 20, 2010 (75 FR 51374), the Coast Guard published a final rule. Due to an administrative error, however, 33 CFR 165.117(a)(3)(ii) was not incorporated into regulation. We are correcting that error by inserting the geographic coordinates forming the loci for the regulated navigation areas, safety and security zones for Neptune Deepwater Port, at 33 CFR 165.117(a)(3)(ii).

This final rule amends 33 CFR 165.122(b)(6) by removing the citation to the repealed statutes and inserting the correct citation to the Inland Navigation Rules.

This final rule amends the Table to 33 CFR 165.151 to correct the order of coordinates included in the Table.

This final rule amends 33 CFR 165.813(b)(5) by updating the telephone number that vessel operators can call to request permission to enter or operate inside moving security zones around cruise ships in the ports of Houston or Galveston, Texas.

This final rule amends 33 CFR 165.814(b)(3) by updating the telephone number that vessel operators can call to request permission to enter or operate inside certain security zones in the Captain of the Port Houston—Galveston zone of responsibility.

This rule redesignates 33 CFR 165.1201 as 33 CFR 165.1188. In 2013, this regulation was published with an incorrect section number within 33 CFR Subpart F. Because there is no Twelfth Coast Guard District, it is necessary to redesignate the regulation within the Eleventh Coast Guard District's portion of 33 CFR Subpart F.

This final rule amends 33 CFR 165.1319 by updating the name from “Safety Zone Regulations, Seafair Blue Angels Air Show Performance, Seattle, WA” to “Safety Zone Regulations, Seafair Air Show Performance, Seattle, WA.”

This final rule amends 33 CFR 167.1322(b)(8) by formatting the description of the precautionary area “ND” so that it matches the International Maritime Organization's (IMO) description of the same precautionary area, as set forth in IMO COLREG .2/Circ. 51 of May 31, 2002. This rule does not change the coordinates themselves; it merely connects the first and last coordinate by using the shoreline as a natural boundary.

This final rule amends 33 CFR 183.5 by updating the address for the American Boat and Yacht Council, Inc. We are also amending this section by replacing the text “Naval Publications Forms Center, Customer Service—Code 1052, 5801 Tabor Avenue, Philadelphia, PA 19120” with “Military Specifications and Standards, Standardization Documents Order Desk, Building 4D, 700 Robbins Avenue, Philadelphia, PA 19111-5094; https://assist.daps.dla.mil/quicksearch/.”

V. Regulatory Analyses

We developed this rule after considering numerous statutes and executive orders (E.O.s) related to rulemaking. Below we summarize our analyses based on these statutes or E.O.s.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. The provisions of this final rule are technical and non-substantive; they will have no substantive effect on the public and will impose no additional costs. This final rule is not a significant regulatory action under section 3(f) of E.O. 12866 as supplemented by E.O. 13563, and does not require an assessment of potential costs and benefits under section 6(a)(3) of E.O. 12866. The Office of Management and Budget (OMB) has not reviewed it under E.O. 12866.

B. Small Entities

Under the Regulatory Flexibility Act (5 U.S.C. 601-612), rules exempt from the notice and comment requirements of the Administrative Procedure Act are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this final rule, and we do not expect it to have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please consult Mr. Paul Crissy by phone at 202-372-1093 or via email at Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under E.O. 13132 (“Federalism”) if it has a substantial direct effect on the States, on the relationship between the national government and the States, or on the distribution of power and responsibilities among the various levels of government. We have analyzed this rule under that order and have determined that it is consistent with the fundamental federalism principles and preemption requirements described in E.O. 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any 1 year. Though this rule will not result in such an expenditure, we do discuss the effects of this rule elsewhere in this preamble.

G. Taking of Private Property

This final rule will not cause a taking of private property or otherwise have taking implications under E.O. 12630 (“Governmental Actions and Interference with Constitutionally Protected Property Rights”).

H. Civil Justice Reform

This final rule meets applicable standards in sections 3(a) and 3(b)(2) of E.O. 12988 (“Civil Justice Reform”), to minimize litigation, eliminate ambiguity, and reduce burden.

I. Protection of Children

We have analyzed this final rule under E.O. 13045 (“Protection of Children from Environmental Health Risks and Safety Risks”). This final rule is not an economically significant rule and would not create an environmental risk to health or risk to safety that might disproportionately affect children.

J. Indian Tribal Governments

This final rule does not have tribal implications under E.O. 13175 (“Consultation and Coordination with Indian Tribal Governments”), because it would not have a substantial direct effect on one or more Indian tribes, on the relationship between the Federal Government and Indian tribes, or on the distribution of power and responsibilities between the Federal Government and Indian tribes.

K. Energy Effects

We have analyzed this final rule under E.O. 13211 (“Actions Concerning Regulations That Significantly Affect Energy Supply, Distribution, or Use”). We have determined that it is not a “significant energy action” under that order because it is not a “significant regulatory action” under E.O. 12866 and is not likely to have a significant adverse effect on the supply, distribution, or use of energy. The Administrator of OMB's Office of Information and Regulatory Affairs has not designated it as a significant energy action. Therefore, it does not require a Statement of Energy Effects under E.O. 13211.

L. Technical Standards

The National Technology Transfer and Advancement Act (15 U.S.C. 272 Note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2, figure 2-1, paragraphs (34)(a) and (b) of the Instruction. This final rule involves regulations that are editorial or procedural, or that concern internal agency functions or organizations. An environmental analysis checklist and a categorical exclusion determination are available in the docket for this final rule where indicated under ADDRESSES.

List of Subjects

33 CFR Part 1

Administrative practice and procedure, Authority delegations (Government agencies), Freedom of information, Penalties.

33 CFR Part 3

Organization and functions (Government agencies).

33 CFR Part 8

Armed forces reserves.

33 CFR Part 13

Decorations, medals, awards.

33 CFR Part 19

Navigation (water), Vessels.

33 CFR Part 23

Aircraft, Signs and symbols, Vessels.

33 CFR Part 25

Authority delegations (Government agencies), Claims.

33 CFR Part 26

Communications equipment, Marine safety, Radio, Telephone, Vessels.

33 CFR Part 27

Administrative practice and procedure, Penalties.

33 CFR Part 51

Administrative practice and procedure, Military personnel.

33 CFR Part 52

Administrative practice and procedure, Archives and records, Military personnel.

33 CFR Part 67

Continental shelf, Navigation (water), Reporting and recordkeeping requirements.

33 CFR Part 80

Navigation (water), Treaties, Waterways.

33 CFR Part 81

Navigation (water), Reporting and recordkeeping requirements, Treaties.

33 CFR Part 84

Navigation (water), Waterways.

33 CFR Part 89

Navigation (water), Reporting and recordkeeping requirements, Waterways.

33 CFR Part 96

Administrative practice and procedure, Marine safety, Reporting and recordkeeping requirements, Vessels.

33 CFR Part 104

Maritime security, Reporting and recordkeeping requirements, Security measures, Vessels.

33 CFR Part 105

Maritime security, Reporting and recordkeeping requirements, Security measures.

33 CFR Part 110

Anchorage grounds.

33 CFR Parts 114, 116, 117, and 118

Bridges.

33 CFR Part 120

Passenger vessels, Reporting and recordkeeping requirements, Security measures, Terrorism.

33 CFR Part 126

Explosives, Harbors, Hazardous substances, Reporting and recordkeeping requirements.

33 CFR Part 127

Fire prevention, Harbors, Hazardous substances, Natural gas, Reporting and recordkeeping requirements, Security measures.

33 CFR Part 128

Harbors, Reporting and recordkeeping requirements, Security measures, Terrorism.

33 CFR Part 135

Administrative practice and procedure, Continental shelf, Insurance, Oil pollution, Reporting and recordkeeping requirements.

33 CFR Part 140

Continental shelf, Investigations, Marine safety, Occupational safety and health, Penalties, Reporting and recordkeeping requirements.

33 CFR Part 141

Citizenship and naturalization, Continental shelf, Employment, Reporting and recordkeeping requirements.

33 CFR Part 144

Continental shelf, Marine safety, Occupational safety and health.

33 CFR Part 148

Administrative practice and procedure, Environmental protection, Harbors, Petroleum.

33 CFR Part 151

Administrative practice and procedure, Oil pollution, Penalties, Reporting and recordkeeping requirements, Water pollution control.

33 CFR Parts 153 and 156

Hazardous substances, Oil pollution, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 157

Cargo vessels, Oil pollution, Reporting and recordkeeping requirements.

33 CFR Part 158

Administrative practice and procedure, Harbors, Oil pollution, Penalties, Reporting and recordkeeping requirements, Water pollution control.

33 CFR Part 159

Alaska, Reporting and recordkeeping requirements, Sewage disposal, Vessels.

33 CFR Part 160

Administrative practice and procedure, Harbors, Hazardous materials transportation, Marine safety, Navigation (water), Reporting and recordkeeping requirements, Vessels, Waterways.

33 CFR Part 161

Harbors, Navigation (water), Reporting and recordkeeping requirements, Vessels, Waterways.

33 CFR Part 164

Marine safety, Navigation (water), Reporting and recordkeeping requirements, Waterways.

33 CFR Part 165

Harbors, Marine safety, Navigation (water), Reporting and recordkeeping requirements, Security measures, Waterways.

33 CFR Part 167

Harbors, Marine safety, Navigation (water), Waterways.

33 CFR Part 169

Endangered and threatened species, Marine mammals, Navigation (water), Radio, Reporting and recordkeeping requirements, Vessels, Water pollution control.

33 CFR Part 174

Intergovernmental relations, Marine safety, Reporting and recordkeeping requirements.

33 CFR Part 179

Marine safety, Reporting and recordkeeping requirements.

33 CFR Part 181

Labeling, Marine safety, Reporting and recordkeeping requirements.

33 CFR Part 183

Marine safety.

For the reasons discussed in the preamble, the Coast Guard amends 33 CFR parts 1, 3, 8, 13, 19, 23, 25, 26, 27, 51, 52, 67, 80, 81, 84, 89, 96, 104, 105, 110, 114, 116, 117, 118, 120, 126, 127, 128, 135, 140, 141, 144, 148, 151, 153, 154, 155, 156, 157, 158, 159, 160, 161, 164, 165, 167, 169, 174, 179, 181, and 183 as follows:

Title 33—NAVIGATION AND NAVIGABLE WATERS

PART 1—GENERAL PROVISIONS

Subpart 1.05—Rulemaking

1. The authority citation for subpart 1.05 continues to read as follows:

Authority: 5 U.S.C. 552, 553, App. 2; 14 U.S.C. 2, 631, 632, and 633; 33 U.S.C. 471, 499; 49 U.S.C. 101, 322; Department of Homeland Security Delegation No. 0170.1.

§ 1.05-20 [Amended]

2. In § 1.05-20(a), following the text “addressed to the”, remove the text “Executive Secretary, Marine Safety and Security Council (CG-0943), United States Coast Guard Headquarters, 2100 2nd St. SW., Stop 7121, Washington, DC 20593-7121” and add, in its place, the text “Commandant (CG-0943), Attn: Executive Secretary, Marine Safety and Security Council, U.S. Coast Guard Stop 7213, 2703 Martin Luther King Jr. Avenue SE., Washington, DC 20593-7213”.

Subpart 1.10—Public Availability of Information

3. The authority citation for subpart 1.10 is revised to read as follows:

Authority: 5 U.S.C. 552; 14 U.S.C. 633, sec. 6(b)(1), 80 Stat. 937 (49 U.S.C. 1655(b)(1)); 49 CFR 1.46(b).

§ 1.10-5 [Amended]

4. In § 1.10-5(a), following the text “written request to the”, remove the text “Chief, Office of Information Management (CG-61), U.S. Coast Guard Headquarters, 2100 2nd St. SW., Stop 7101, Washington, DC 20593-7101” and add, in its place, the text “Commandant (CG-61), Attn: Office of Information Management, U.S. Coast Guard Stop 7710, 2703 Martin Luther King Jr. Avenue SE., Washington, DC 20593-7710”.

Subpart 1.26—Charges for Duplicate Medals, and Sales of Personal Property, Equipment or Services and Rentals

5. The authority citation for subpart 1.26 continues to read as follows:

Authority: 14 U.S.C. 633; 49 CFR 1.46(k).

§ 1.26-5 [Amended]

6. In § 1.26-5(b), following the text “may be obtained from”, remove the text “Commandant (CG-1221) 2nd St. SW., Stop 7801, Washington, DC 20593-7801” and add, in its place, the text “Commander, Personnel Service Center (PSC-PSD-M&A), U.S. Coast Guard Stop 7200, 4200 Wilson Boulevard Suite 1100, Arlington, VA 20598-7200”.

PART 3—COAST GUARD AREAS, DISTRICTS, SECTORS, MARINE INSPECTION ZONES, AND CAPTAIN OF THE PORT ZONES

7. The authority citation for part 3 continues to read as follows:

Authority: 14 U.S.C. 92 & 93; Pub. L. 107-296, 116 Stat. 2135; Department of Homeland Security Delegation No. 0170.1, para. 2(23).

§ 3.05-20 [Amended]

8. In § 3.05-20, after the words “Sector Southeastern New England's office is located in”, remove the words “Providence, RI” and add, in their place, the words “Woods Hole, MA”.

§ 3.40-28 [Amended]

9. In § 3.40-28 introductory text, after the words “Sector Houston-Galveston's office is located in”, remove the words “Galena Park, TX” and add, in their place, the words “Houston, TX”.

PART 8—UNITED STATES COAST GUARD RESERVE

10. The authority citation for part 8 continues to read as follows:

Authority: 14 U.S.C. 633.

§ 8.7 [Amended]

11. In § 8.7(a), remove the text “Commandant (CG-13), 2100 2nd St. SW., Stop 7801, Washington, DC 20593-7801” and add, in its place, the text “Commandant (CG-131), Attn: Office of Reserve Affairs, U.S. Coast Guard Stop 7907, 2703 Martin Luther King Jr. Avenue SE., Washington, DC 20593-7907”.

PART 13—DECORATIONS, MEDALS, RIBBONS AND SIMILAR DEVICES

12. The authority citation for part 13 continues to read as follows:

Authority: Secs. 500, 633, 63 Stat. 536, 545, sec. 6(b)(1), 80 Stat. 938; 14 U.S.C. 500, 633; 49 U.S.C. 1655(b); 49 CFR 1.4 (a)(2) and (f).

§ 13.01-15 [Amended]

13. In § 13.01-15(a), following the text “applications and recommendations should be addressed to the”, remove the text “Commandant, U.S. Coast Guard, 2nd St. SW., Stop 7000, Washington, DC 20593-7000” and add, in its place, the text “Commander, Personnel Service Center (PSC-PSD-M&A), U.S. Coast Guard Stop 7200, 4200 Wilson Boulevard Suite 1100, Arlington, VA 20598-7200”.

PART 19—WAIVERS OF NAVIGATION AND VESSEL INSPECTION LAWS AND REGULATIONS ¹

14. The authority citation for part 19 continues to read as follows:

Authority: Sec. 1, 64 Stat. 1120, sec. 6(b)(1), 80 Stat. 937; 46 U.S.C. note prec. 1, 49 U.S.C. 108; Department of Homeland Security Delegation No. 0170.

¹ Also codified as 46 CFR part 6.

§ 19.06 [Amended]

15. Amend § 19.06 as follows:

a. In paragraph (b), following the text “been established, or to the”, remove the text “Commandant (CG-543), 2100 2nd St. SW., Stop 7000, Washington, DC 20593-7000” and add, in its place, the text “Commandant (CG-CVC), Attn: Office of Commercial Vessel Compliance, U.S. Coast Guard Stop 7501, 2703 Martin Luther King Jr. Avenue SE., Washington, DC 20593-7501”; and

b. In paragraph (d), following the text “be transmitted to the”, remove the text “Commandant (CG-543)” and add, in its place, the text “Commandant (CG-CVC)”.

PART 23—DISTINCTIVE MARKINGS FOR COAST GUARD VESSELS AND AIRCRAFT

16. The authority citation for part 23 is revised to read as follows:

Authority: Secs. 638, 639, 63 Stat. 546; 14 U.S.C. 638, 639; E.O. 10707; 3 CFR, 1954-1958 Comp., p. 364.

§ 23.10 [Amended]

17. In § 23.10(d), remove the text “Commandant, U.S. Coast Guard, 2100 2nd St. SW., Stop 7000, Washington, DC 20593-7000” and add, in its place, the text “Commandant (CG-092), Attn: Commandant, U.S. Coast Guard Stop 7103, 2703 Martin Luther King Jr. Avenue SE., Washington, DC 20593-7103”.

§ 23.12 [Amended]

18. In § 23.12(c), remove the text “Commandant, U.S. Coast Guard, 2100 2nd St. SW., Stop 7000, Washington, DC 20593-7000” and add, in its place, the text “Commandant (CG-092), Attn: Commandant, U.S. Coast Guard Stop 7103, 2703 Martin Luther King Jr. Avenue SE., Washington, DC 20593-7103”.

PART 25—CLAIMS

19. The authority citation for part 25 continues to read as follows:

Authority: 14 U.S.C. 633; 49 CFR 1.45(a); 49 CFR 1.45(b); 49 CFR 1.46(b), unless otherwise noted.

§ 25.103 [Amended]

20. In § 25.103, following the text “23510-9100, or from”, remove the text “Commandant (CG-0945), 2100 2nd St. SW., Stop 7121, Washington, DC 20593-7121” and add, in its place, the text “Commandant (CG-0945), Attn: Office of Claims and Litigation, U.S. Coast Guard Stop 7213, 2703 Martin Luther King Jr. Avenue SE., Washington, DC 20593-7213”.

21. Amend § 25.111 to revise paragraph (b)(3) to read as follows:

§ 25.111 Action by claimant.

* * * * *

(b) * * *

(3) Commandant (CG-0945), Attn: Office of Claims and Litigation, U.S. Coast Guard Stop 7213, 2703 Martin Luther King Jr. Avenue SE., Washington, DC 20593-7213.

* * * * *

PART 26—VESSEL BRIDGE-TO-BRIDGE RADIOTELEPHONE REGULATIONS

22. The authority citation for part 26 continues to read as follows:

Authority: 14 U.S.C. 2, 33 U.S.C. 1201-1208; Pub. L. 107-295, 116 Stat. 2064; Department of Homeland Security Delegation No. 0170. Rule 1, International Regulations for the Prevention of Collisions at Sea.

§ 26.08 [Amended]

23. In § 26.08(c) introductory text, remove the text “U.S. Coast Guard, Marine Safety, Security and Environmental Protection, (CG-5), 2100 2nd St. SW., Stop 7355, Washington, DC 20593-7355” and add, in its place, the text “Commandant (CG-DCO-D), Attn: Deputy for Operations Policy and Capabilities, U.S. Coast Guard Stop 7318, 2703 Martin Luther King Jr. Avenue SE., Washington, DC 20593-7318”.

PART 27—ADJUSTMENT OF CIVIL MONETARY PENALTIES FOR INFLATION

24. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

25. Revise Table 1 in § 27.3 to read as follows:

§ 27.3 Penalty Adjustment Table

* * * * *

Table 1—Civil Monetary Penalty Inflation Adjustments
U.S. Code citation | Civil monetary penalty description | 2014 Adjusted maximum penalty amount ($)
14 U.S.C. 88(c) | Saving Life and Property | 8,000
14 U.S.C. 645(i) | Confidentiality of Medical Quality Assurance Records (first offense) | 4,000
14 U.S.C. 645(i) | Confidentiality of Medical Quality Assurance Records (subsequent offenses) | 30,000
16 U.S.C. 4711(g)(1) | Aquatic Nuisance Species in Waters of the United States | 35,000
19 U.S.C. 70 | Obstruction of Revenue Officers by Masters of Vessels | 3,000
19 U.S.C. 70 | Obstruction of Revenue Officers by Masters of Vessels—Minimum Penalty | 700
19 U.S.C. 1581(d) | Failure to Stop Vessel When Directed; Master, Owner, Operator or Person in Charge ¹ | 5,000
19 U.S.C. 1581(d) | Failure to Stop Vessel When Directed; Master, Owner, Operator or Person in Charge—Minimum Penalty ¹ | 1,000
33 U.S.C. 471 | Anchorage Ground/Harbor Regulations General | 110
33 U.S.C. 474 | Anchorage Ground/Harbor Regulations St. Mary's River | 300
33 U.S.C. 495(b) | Bridges/Failure to Comply with Regulations ² | 25,000
33 U.S.C. 499(c) | Bridges/Drawbridges ² | 25,000
33 U.S.C. 502(c) | Bridges/Failure to Alter Bridge Obstructing Navigation ² | 25,000
33 U.S.C. 533(b) | Bridges/Maintenance and Operation ² | 25,000
33 U.S.C. 1208(a) | Bridge to Bridge Communication; Master, Person in Charge or Pilot | 800
33 U.S.C. 1208(b) | Bridge to Bridge Communication; Vessel | 800
33 U.S.C. 1232(a) | PWSA Regulations | 40,000
33 U.S.C. 1236(b) | Vessel Navigation: Regattas or Marine Parades; Unlicensed Person in Charge | 8,000
33 U.S.C. 1236(c) | Vessel Navigation: Regattas or Marine Parades; Owner Onboard Vessel | 8,000
33 U.S.C. 1236(d) | Vessel Navigation: Regattas or Marine Parades; Other Persons | 3,000
33 U.S.C. 1321(b)(6)(B)(i) | Oil/Hazardous Substances: Discharges (Class I per violation) | 15,000
33 U.S.C. 1321(b)(6)(B)(i) | Oil/Hazardous Substances: Discharges (Class I total under paragraph) | 40,000
33 U.S.C. 1321(b)(6)(B)(ii) | Oil/Hazardous Substances: Discharges (Class II per day of violation) | 15,000
33 U.S.C. 1321(b)(6)(B)(ii) | Oil/Hazardous Substances: Discharges (Class II total under paragraph) | 190,000
33 U.S.C. 1321(b)(7)(A) | Oil/Hazardous Substances: Discharges (per day of violation) Judicial Assessment | 40,000
33 U.S.C. 1321(b)(7)(A) | Oil/Hazardous Substances: Discharges (per barrel of oil or unit discharged) Judicial Assessment | 1,100
33 U.S.C. 1321(b)(7)(B) | Oil/Hazardous Substances: Failure to Carry Out Removal/Comply With Order (Judicial Assessment) | 40,000
33 U.S.C. 1321(b)(7)(C) | Oil/Hazardous Substances: Failure to Comply with Regulation Issued Under 1321(j) (Judicial Assessment) | 40,000
33 U.S.C. 1321(b)(7)(D) | Oil/Hazardous Substances: Discharges, Gross Negligence (per barrel of oil or unit discharged) Judicial Assessment | 4,000
33 U.S.C. 1321(b)(7)(D) | Oil/Hazardous Substances: Discharges, Gross Negligence—Minimum Penalty (Judicial Assessment) | 130,000
33 U.S.C. 1322(j) | Marine Sanitation Devices; Operating | 3,000
33 U.S.C. 1322(j) | Marine Sanitation Devices; Sale or Manufacture | 8,000
33 U.S.C. 1608(a) | International Navigation Rules; Operator | 8,000
33 U.S.C. 1608(b) | International Navigation Rules; Vessel | 8,000
33 U.S.C. 1908(b)(1) | Pollution from Ships; General | 40,000
33 U.S.C. 1908(b)(2) | Pollution from Ships; False Statement | 8,000
33 U.S.C. 2072(a) | Inland Navigation Rules; Operator | 8,000
33 U.S.C. 2072(b) | Inland Navigation Rules; Vessel | 8,000
33 U.S.C. 2609(a) | Shore Protection; General | 40,000
33 U.S.C. 2609(b) | Shore Protection; Operating Without Permit | 15,000
33 U.S.C. 2716a(a) | Oil Pollution Liability and Compensation | 40,000
33 U.S.C. 3852(a)(1)(A) | Clean Hulls; Civil Enforcement | 37,500
33 U.S.C. 3852(a)(1)(B) | Clean Hulls; Civil Enforcement | 50,000
42 U.S.C. 9609(a) | Hazardous Substances, Releases, Liability, Compensation (Class I) | 35,000
42 U.S.C. 9609(b) | Hazardous Substances, Releases, Liability, Compensation (Class II) | 35,000
42 U.S.C. 9609(b) | Hazardous Substances, Releases, Liability, Compensation (Class II subsequent offense) | 100,000
42 U.S.C. 9609(c) | Hazardous Substances, Releases, Liability, Compensation (Judicial Assessment) | 35,000
42 U.S.C. 9609(c) | Hazardous Substances, Releases, Liability, Compensation (Judicial Assessment subsequent offense) | 100,000
46 U.S.C. 80509(a) | Safe Containers for International Cargo | 8,000
46 U.S.C. 41107 | International Ocean Commerce Transportation—Common Carrier Agreements per violation | 6,000
46 U.S.C. App 1712(a) | International Ocean Commerce Transportation—Common Carrier Agreements per violation—Willful violation | 30,000
46 U.S.C. App 1712(b) | International Ocean Commerce Transportation—Common Carrier Agreements—Fine for tariff violation (per shipment) | 60,000
46 U.S.C. 70305(c) | Suspension of Passenger Service | 70,000
46 U.S.C. 2110(e) | Vessel Inspection or Examination Fees | 8,000
46 U.S.C. 2115 | Alcohol and Dangerous Drug Testing | 7,000
46 U.S.C. 2302(a) | Negligent Operations: Recreational Vessels | 6,000
46 U.S.C. 2302(a) | Negligent Operations: Other Vessels | 30,000
46 U.S.C. 2302(c)(1) | Operating a Vessel While Under the Influence of Alcohol or a Dangerous Drug | 7,000
46 U.S.C. 2306(a)(4) | Vessel Reporting Requirements: Owner, Charterer, Managing Operator, or Agent | 8,000
46 U.S.C. 2306(b)(2) | Vessel Reporting Requirements: Master | 1,100
46 U.S.C. 3102(c)(1) | Immersion Suits | 8,000
46 U.S.C. 3302(i)(5) | Inspection Permit | 1,100
46 U.S.C. 3318(a) | Vessel Inspection; General | 8,000
46 U.S.C. 3318(g) | Vessel Inspection; Nautical School Vessel | 8,000
46 U.S.C. 3318(h) | Vessel Inspection; Failure to Give Notice IAW 3304(b) | 1,100
46 U.S.C. 3318(i) | Vessel Inspection; Failure to Give Notice IAW 3309(c) | 1,100
46 U.S.C. 3318(j)(1) | Vessel Inspection; Vessel ≥1600 Gross Tons | 15,000
46 U.S.C. 3318(j)(1) | Vessel Inspection; Vessel <1600 Gross Tons | 3,000
46 U.S.C. 3318(k) | Vessel Inspection; Failure to Comply with 3311(b) | 15,000
46 U.S.C. 3318(l) | Vessel Inspection; Violation of 3318(b)-3318(f) | 8,000
46 U.S.C. 3502(e) | List/count of Passengers | 110
46 U.S.C. 3504(c) | Notification to Passengers | 15,000
46 U.S.C. 3504(c) | Notification to Passengers; Sale of Tickets | 800
46 U.S.C. 3506 | Copies of Laws on Passenger Vessels; Master | 300
46 U.S.C. 3718(a)(1) | Liquid Bulk/Dangerous Cargo | 40,000
46 U.S.C. 4106 | Uninspected Vessels | 8,000
46 U.S.C. 4311(b)(1) | Recreational Vessels (maximum for related series of violations) | 300,000
46 U.S.C. 4311(b)(1) | Recreational Vessels; Violation of 4307(a) | 6,000
46 U.S.C. 4311(c) | Recreational Vessels | 1,100
46 U.S.C. 4507 | Uninspected Commercial Fishing Industry Vessels | 8,000
46 U.S.C. 4703 | Abandonment of Barges | 1,100
46 U.S.C. 5116(a) | Load Lines | 8,000
46 U.S.C. 5116(b) | Load Lines; Violation of 5112(a) | 15,000
46 U.S.C. 5116(c) | Load Lines; Violation of 5112(b) | 8,000
46 U.S.C. 6103(a) | Reporting Marine Casualties | 35,000
46 U.S.C. 6103(b) | Reporting Marine Casualties; Violation of 6104 | 8,000
46 U.S.C. 8101(e) | Manning of Inspected Vessels; Failure to Report Deficiency in Vessel Complement | 1,100
46 U.S.C. 8101(f) | Manning of Inspected Vessels | 15,000
46 U.S.C. 8101(g) | Manning of Inspected Vessels; Employing or Serving in Capacity not Licensed by USCG | 15,000
46 U.S.C. 8101(h) | Manning of Inspected Vessels; Freight Vessel <100 GT, Small Passenger Vessel, or Sailing School Vessel | 1,100
46 U.S.C. 8102(a) | Watchmen on Passenger Vessels | 1,100
46 U.S.C. 8103(f) | Citizenship Requirements | 800
46 U.S.C. 8104(i) | Watches on Vessels; Violation of 8104(a) or (b) | 15,000
46 U.S.C. 8104(j) | Watches on Vessels; Violation of 8104(c), (d), (e), or (h) | 15,000
46 U.S.C. 8302(e) | Staff Department on Vessels | 110
46 U.S.C. 8304(d) | Officer's Competency Certificates | 110
46 U.S.C. 8502(e) | Coastwise Pilotage; Owner, Charterer, Managing Operator, Agent, Master or Individual in Charge | 15,000
46 U.S.C. 8502(f) | Coastwise Pilotage; Individual | 15,000
46 U.S.C. 8503 | Federal Pilots | 40,000
46 U.S.C. 8701(d) | Merchant Mariners Documents | 800
46 U.S.C. 8702(e) | Crew Requirements | 15,000
46 U.S.C. 8906 | Small Vessel Manning | 35,000
46 U.S.C. 9308(a) | Pilotage: Great Lakes; Owner, Charterer, Managing Operator, Agent, Master or Individual in Charge | 15,000
46 U.S.C. 9308(b) | Pilotage: Great Lakes; Individual | 15,000
46 U.S.C. 9308(c) | Pilotage: Great Lakes; Violation of 9303 | 15,000
46 U.S.C. 10104(b) | Failure to Report Sexual Offense | 8,000
46 U.S.C. 10314(a)(2) | Pay Advances to Seamen | 800
46 U.S.C. 10314(b) | Pay Advances to Seamen; Remuneration for Employment | 800
46 U.S.C. 10315(c) | Allotment to Seamen | 800
46 U.S.C. 10321 | Seamen Protection; General | 7,000
46 U.S.C. 10505(a)(2) | Coastwise Voyages: Advances | 7,000
46 U.S.C. 10505(b) | Coastwise Voyages: Advances; Remuneration for Employment | 7,000
46 U.S.C. 10508(b) | Coastwise Voyages: Seamen Protection; General | 7,000
46 U.S.C. 10711 | Effects of Deceased Seamen | 300
46 U.S.C. 10902(a)(2) | Complaints of Unfitness | 800
46 U.S.C. 10903(d) | Proceedings on Examination of Vessel | 110
46 U.S.C. 10907(b) | Permission to Make Complaint | 800
46 U.S.C. 11101(f) | Accommodations for Seamen | 800
46 U.S.C. 11102(b) | Medicine Chests on Vessels | 800
46 U.S.C. 11104(b) | Destitute Seamen | 110
46 U.S.C. 11105(c) | Wages on Discharge | 800
46 U.S.C. 11303(a) | Log Books; Master Failing to Maintain | 300
46 U.S.C. 11303(b) | Log Books; Master Failing to Make Entry | 300
46 U.S.C. 11303(c) | Log Books; Late Entry | 200
46 U.S.C. 11506 | Carrying of Sheath Knives | 80
46 U.S.C. 12151(a) | Documentation of Vessels (violation per day) | 15,000
46 U.S.C. 12151(c) | Engaging in Fishing After Falsifying Eligibility (fine per day) | 130,000
46 U.S.C. 12309(a) | Numbering of Undocumented Vessels—Willful violation | 6,000
46 U.S.C. 12309(b) | Numbering of Undocumented Vessels | 1,100
46 U.S.C. 12507(b) | Vessel Identification System | 15,000
46 U.S.C. 14701 | Measurement of Vessels | 30,000
46 U.S.C. 14702 | Measurement; False Statements | 30,000
46 U.S.C. 31309 | Commercial Instruments and Maritime Liens | 15,000
46 U.S.C. 31330(a)(2) | Commercial Instruments and Maritime Liens; Mortgagor | 15,000
46 U.S.C. 31330(b)(2) | Commercial Instruments and Maritime Liens; Violation of 31329 | 35,000
46 U.S.C. 70119 | Port Security | 30,000
46 U.S.C. 70119(b) | Port Security—Continuing Violations | 50,000
46 U.S.C. 70506 | Maritime Drug Law Enforcement; Penalties | 5,000
49 U.S.C. 5123(a)(1) | Hazardous Materials: Related to Vessels—Maximum Penalty | 60,000
49 U.S.C. 5123(a)(1) | Hazardous Materials: Related to Vessels—Minimum Penalty | 300
49 U.S.C. 5123(a)(2) | Hazardous Materials: Related to Vessels—Penalty from Fatalities, Serious Injuries/Illness or Substantial Damage to Property | 110,000
Note: The changes in Civil Penalties for calendar year 2014, shown above, are based on the change in CPI-U from June 2009 to June 2010. The recorded change in CPI-U during that period was 1.05%. Because of the small change in CPI-U and the required rules for rounding, there was no change to any of the maximum penalty amounts from the previous adjustment.
¹ Enacted under the Tariff Act of 1930, exempt from inflation adjustments.
² These penalties increased in accordance with the statute to $10,000 in 2005, $15,000 in 2006, $20,000 in 2007, and $25,000 in 2008 and thereafter.

PART 51—COAST GUARD DISCHARGE REVIEW BOARD

26. The authority citation for part 51 continues to read as follows:

Authority: 10 U.S.C. 1553; Pub. L. 107-296, 116 Stat. 2135.

§ 51.9 [Amended]

27. In § 51.9(b), following the text “explanatory matter, from”, remove the text “Commandant, (CG-12), 2100 2nd St. SW., Stop 7801, Washington, DC 20593-7801” and add, in its place, the text “Commandant (CG-12), Attn: Personnel Management Directorate, U.S. Coast Guard Stop 7907, 2703 Martin Luther King Jr. Avenue SE., Washington, DC 20593-7907”.

PART 52—BOARD FOR CORRECTION OF MILITARY RECORDS OF THE COAST GUARD

28. The authority citation for part 52 continues to read as follows:

Authority: 10 U.S.C. 1552; 14 U.S.C. 425.

§ 52.21 [Amended]

29. In § 52.21(a), following the text “be addressed to:”, remove the text “Chair, Board for Correction of Military Records of the Coast Guard (C-60), United States Department of Transportation, Washington, DC 20590” and add, in its place, the text “DHS Office of the General Counsel, Board for Correction of Military Records, Mailstop 485, 245 Murray Lane, Washington, DC 20528”.

PART 67—AIDS TO NAVIGATION ON ARTIFICIAL ISLANDS AND FIXED STRUCTURES

30. The authority citation for part 67 continues to read as follows:

Authority: 14 U.S.C. 85, 633; 43 U.S.C. 1333; Department of Homeland Security Delegation No. 0170.1.

§ 67.10-25 [Amended]

31. In § 67.10-25(a) introductory text, remove the text “Office of Aids to Navigation, (CG-541), 2100 2nd St. SW., Stop 7581, Washington, DC 20593-7581” and add, in its place, the text “Commandant (CG-NAV), Attn: Navigation System Division, U.S. Coast Guard Stop 7418, 2703 Martin Luther King Jr. Avenue SE., Washington, DC 20593-7418”.

PART 80—COLREGS DEMARCATION LINES

32. The authority citation for part 80 continues to read as follows:

Authority: 14 U.S.C. 2; 14 U.S.C. 633; 33 U.S.C. 151(a).

§ 80.160 [Amended]

33. In § 80.160(c), after the text “A line drawn from”, remove the text “Fire Island Inlet Breakwater Light 348° true” and add, in its place, the text “the westernmost point on Fire Island”.

34. Revise § 80.712 to read as follows:

§ 80.712 Morris Island, SC to Hilton Head Island, SC.

(a) A line drawn from the easternmost tip of Folly Island to 32°41′37″ N., 079°53′03″ W. (abandoned lighthouse tower) on the northside of Lighthouse Inlet; thence west to the shoreline of Morris Island.

(b) A line drawn from the seaward tangent of Folly Island across Stono River to the shoreline of Sandy Point.

§ 80.815 [Amended]

35. In § 80.815(b), remove the text “Mobile Point Light to Dauphin Island Channel Light No. 1” and add, in its place, the text “30°14′41.4″ N., 088°01′26.5″ W. (Mobile Point Light) to 30°15′13.3″ N., 088°03′22.6″ W. (Dauphin Island Channel Light 1)”.

36. Revise § 80.1420 to read as follows:

§ 80.1420 Mamala Bay, Oahu, HI.

A line drawn from 21°17′46.9″ N., 158°06′22.2′ W. (Barbers Point Light) to 21°15′20.5″ N., 157°48′34.3″ W. (Diamond Head Light).

37. Revise § 80.1430 to read as follows:

§ 80.1430 Kaneohe Bay, Oahu, HI.

A line drawn from 21°27′44.1″ N., 157°45′48.6″ W. (Pyramid Rock Light), across Kaneohe Bay through the center of Mokolii Island to the shoreline.

38. Revise § 80.1440 to read as follows:

§ 80.1440 Port Allen, Kauai, HI.

A line drawn from 21°53′34.3″ N., 159°36′15.6″ W. (Puolo Point Light) to 21°53′49.0″ N., 159°35′27.2″ W. (Hanapepe Breakwater Light 2).

39. Revise § 80.1450 to read as follows:

§ 80.1450 Nawiliwili Harbor, Kauai, HI.

A line drawn from the seaward extremity of Nawiliwili Harbor Breakwater Light to 21°57′23.8″ N., 159°20′52.7″ W. (Kukii Point Light).

40. Revise § 80.1460 to read as follows:

§ 80.1460 Kahului Harbor, Maui, HI.

A line drawn from 20°54′04.1″ N., 156°28′26.8″ W. (Kahului Entrance Breakwater Light 4), to 20°54′02.3″ N., 156°28′17.4″ W. (Kahului Entrance Breakwater Light 3).

41. Revise § 80.1470 to read as follows:

§ 80.1470 Kawaihae Harbor, Hawaii, HI.

A line drawn from 20°02′29.1″ N., 155°49′58.2″ W. (Kawaihae Light), to the seaward extremity of the Kawaihae South Breakwater.

PART 81—72 COLREGS: IMPLEMENTING RULES

42. The authority citation for part 81 continues to read as follows:

Authority: 33 U.S.C. 1607; E.O. 11964; 49 CFR 1.46.

§ 81.18 [Amended]

43. In § 81.18(b), remove the text “Marine Safety, Security and Environmental Protection, U.S. Coast Guard Headquarters, (CG-5), 2100 2nd St. SW., Stop 7355, Washington, DC 20593-7355” and add, in its place, the text “Marine Transportation Systems Directorate, U.S. Coast Guard Headquarters, (CG-5PW), Stop 7509, 2703 Martin Luther King Avenue SE., Washington, DC 20593-7509”.

PART 84—ANNEX I: POSITIONING AND TECHNICAL DETAILS OF LIGHTS AND SHAPES

44. The authority citation for part 84 continues to read as follows:

Authority: 33 U.S.C. 2071; Department of Homeland Security Delegation No. 0170.1.

45. In § 84.13(a), following the text “10017 and is available for inspection at the”, remove the text “Coast Guard, Ocean Engineering Division (CG-432), (CG-432), 2100 2nd St. SW., Stop 7901, Washington, DC 20593-7901” and add, in its place, the text “Coast Guard Headquarters. Contact Commandant (CG-43), Attn: Office of Civil Engineering, U.S. Coast Guard Stop 7714, 2703 Martin Luther King Jr. Avenue SE., Washington, DC 20593-7714”.

PART 89—INLAND NAVIGATION RULES: IMPLEMENTING RULES

46. The authority citation for part 89 continues to read as follows:

Authority: 33 U.S.C. 2071; 49 CFR 1.46(n)(14).

§ 89.18 [Amended]

47. In § 89.18(a), following the text “inspection at the offices of”, remove the text “Assistant Commandant for Marine Safety, Security and Environmental Protection, U.S. Coast Guard Headquarters, (CG-5), 2100 2nd St. SW., Stop 7355, Washington, DC 20593-7355” and add, in its place, the text “the Marine Transportation Systems Directorate, U.S. Coast Guard Headquarters (CG-5PW), Stop 7509, 2703 Martin Luther King Avenue SE., Washington, DC 20593-7509”.

48. Revise § 89.25(h) to read as follows:

§ 89.25 Waters upon which Inland Rules 9(a)(ii), 14(d), and 15(b) apply.

* * * * *

(h) Chattahoochee River.

* * * * *

PART 96—RULES FOR THE SAFE OPERATION OF VESSELS AND SAFETY MANAGEMENT SYSTEMS

49. The authority citation for part 96 is revised to read as follows:

Authority: 46 U.S.C. 3201 et. seq.; 46 U.S.C. 3103; 46 U.S.C. 3316; 33 U.S.C. 1231; 49 CFR 1.45; 49 CFR 1.46.

§ 96.130 [Amended]

50. In § 96.130(a), following the text “inspect all material at the”, remove the text “U.S. Coast Guard, Office of Design and Engineering Standards (CG-521), 2100 2nd St. SW., Stop 7126, Washington, DC 20593-7126, or at” and add, in its place, the text “Coast Guard Headquarters. Contact Commandant (CG-ENG), Attn: Office of Design and Engineering Standards, U.S. Coast Guard Stop 7509, 2703 Martin Luther King Jr. Avenue SE., Washington, DC 20593-7509. The material is also available at”; and following the text “Administration (NARA)”, remove the text “, and receive it” and add, in its place, the text “and”.

§ 96.400 [Amended]

51. In § 96.400(b), remove the text “Commandant (CG-521), 2100 2nd St. SW., Stop 7126, Washington, DC 20593-7126” and add, in its place, the text “Commandant (CG-ENG), Attn: Office of Design and Engineering Standards, U.S. Coast Guard Stop 7509, 2703 Martin Luther King Jr. Avenue SE., Washington, DC 20593-7509”.

§ 96.430 [Amended]

52. In § 96.430(a), remove the text “Commandant (CG-521), Office of Design and Engineering Standards, 2100 2nd St. SW., Stop 7126, Washington, DC 20593-7126” and add, in its place, the text “Commandant (CG-ENG), Attn: Office of Design and Engineering Standards, U.S. Coast Guard Stop 7509, 2703 Martin Luther King Jr. Avenue SE., Washington, DC 20593-7509”.

§ 96.460 [Amended]

53. In § 96.460(a)(3), remove the text “Commandant (CG-543)” and add, in its place, the text “Commandant (CG-CVC)”.

54. Amend § 96.495 as follows:

a. In paragraph (a), remove the text “Commandant (CG-543), 2100 2nd Street SW., Stop 7126, Washington, DC 20593-7126” and add, in its place, the text “Commandant (CG-CVC), Attn: Office of Commercial Vessel Compliance, U.S. Coast Guard Stop 7501, 2703 Martin Luther King Jr. Avenue SE., Washington, DC 20593-7501”;

b. Revise paragraph (b) to read as set forth below; and

c. In paragraph (c), remove the text “Commandant (CG-543), 2100 2nd Street SW., Stop 7126, Washington, DC 20593-7126” and add, in its place, the text “Commandant (CG-CVC)”.

§ 96.495 How can I appeal a decision made by an authorized organization?

* * * * *

(b) If you are not satisfied with the organization's decision, you may appeal directly to Commandant (CG-CVC). You must make your appeal in writing, including any documentation and evidence you wish to be considered. You may ask Commandant (CG-CVC) to stay the effect of the appealed decision while it is under review.

* * * * *

PART 104—MARITIME SECURITY: VESSELS

55. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.130 [Amended]

56. In § 104.130, following the text “with justification to the”, remove the text “Commandant (CG-5P) at 2100 2nd St. SW., Stop 7581, Washington, DC 20593-7581” and add, in its place, the text “Commandant (CG-5P), Attn: Assistant Commandant for Prevention Policy, U.S. Coast Guard Stop 7501, 2703 Martin Luther King Jr. Avenue SE., Washington, DC 20593-7501”.

§ 104.400 [Amended]

57. In § 104.400(b), remove the text “Commanding Officer (MSC), USCG Marine Safety Center, 1900 Half Street SW., Suite 1000, Room 525, Washington, DC 20024 for visitors. Send all mail to Commanding Officer (MSC), United States Coast Guard, 2100 2nd St. SW., Stop 7102, Washington, DC 20593-7102” and add, in its place, the text “Commanding Officer, Marine Safety Center, U.S. Coast Guard, 4200 Wilson Boulevard Suite 400, Arlington, VA 22203 for visitors. Send all mail to: Commanding Officer (MSC), Attn: Marine Safety Center, U.S. Coast Guard Stop 7410, 4200 Wilson Boulevard Suite 400, Arlington, VA 20598-7410”.

PART 105—MARITIME SECURITY: FACILITIES

58. The authority citation for part 105 continues to read as follows:

Authority: 33 U.S.C. 1226, 1231; 46 U.S.C. 70103; 50 U.S.C. 191; 33 CFR 1.05-1, 6.04-11, 6.14, 6.16, and 6.19; Department of Homeland Security Delegation No. 0170.1.

§ 105.130 [Amended]

59. In § 105.130, following the text “with justification to the”, remove the text “Commandant (CG-5P) at 2100 2nd St. SW., Stop 7581, Washington, DC 20593-7581” and add, in its place, the text “Commandant (CG-5P), Attn: Assistant Commandant for Prevention Policy, U.S. Coast Guard Stop 7501, 2703 Martin Luther King Jr. Avenue SE., Washington, DC 20593-7501”.

PART 110—ANCHORAGE REGULATIONS

60. Revise the authority citation for part 110 to read as follows:

Authority: 33 U.S.C. 471, 1221 through 1236, 2071; 33 CFR 1.05-1; Department of Homeland Security Delegation No. 0170.1.

61. Revise § 110.1(a) to read as follows:

§ 110.1 General.

(a) The areas described in subpart A of this part are designated as special anchorage areas for the purposes of rule 30 (33 CFR 83.30) and rule 35 (33 CFR 83.35) of the Inland Navigation Rules, 33 CFR Chapter I, Subchapter E. Vessels of less than 20 meters in length; and barges, canal boats, scows, or other nondescript craft, are not required to sound signals required by rule 35 of the Inland Navigation Rules. Vessels of less than 20 meters are not required to exhibit anchor lights or shapes required by rule 30 of the Inland Navigation Rules.

* * * * *

62. In § 110.25, remove paragraph (f).

63. Revise § 110.59(c) to read as follows:

§ 110.59 Eastern Long Island, NY.

* * * * *

(c) Northport Harbor. Beginning on the shoreline at 40°54′25″ N., 73°22′05″ W.; thence to 40°54′37.5″ N., 73°21′32.9″ W.; thence along the eastern shoreline to 40°53′33.1″ N., 73°21′28.2″ W.; thence to 40°53′25.8″ N., 73°21′37.7″ W.; thence along the shoreline to the point of beginning.

* * * * *

64. Revise § 110.72d to read as follows:

§ 110.72d Ashley River, SC.

All waters on the southwest portion of the Ashley River encompassed within the following points: beginning at 32°46′42.7″ N., 079°57′19.3″ W.; thence southwest to 32°46′38.0″ N., 079°57′24.0″ W.; thence southeast to 32°46′32.0″ N., 079°57′15.5″ W.; thence southeast to 32°46′29.0″ N., 079°57′00.9″ W.; thence back to origin following the southwest boundary of the Ashley River Channel. All coordinates are North American Datum 1983.

PART 114—GENERAL

65. The authority citation for part 114 continues to read as follows:

Authority: 33 U.S.C. 401, 406, 491, 494, 495, 499, 502, 511, 513, 514, 516, 517, 519, 521, 522, 523, 525, 528, 530, 533, and 535(c), (e), and (h); 14 U.S.C. 633; 49 U.S.C. 1655(g); Pub. L. 107-296, 116 Stat. 2135; 33 CFR 1.05-1 and 1.01-60, Department of Homeland Security Delegation Number 0170.1.

§ 114.50 [Amended]

66. In § 114.50, remove the text “Administrator, Office of Bridge Programs, (CG-BRG), 2100 2nd St. SW., Stop 7683, Washington, DC 20593-7683” and add, in its place, the text “Commandant (CG-BRG), Attn: Office of Bridge Programs, U.S. Coast Guard Stop 7418, 2703 Martin Luther King Jr. Avenue SE., Washington, DC 20593-7418”.

PART 116—ALTERATION OF UNREASONABLY OBSTRUCTIVE BRIDGES

67. The authority citation for part 116 continues to read as follows:

Authority: 33 U.S.C. 401, 521.

§ 116.15 [Amended]

68. In § 116.15(a), after the text “of a Detailed Investigation, to the”, remove the text “Administrator, Office of Bridge Programs” and add, in its place, the text “Chief, Office of Bridge Programs”.

§ 116.45 [Amended]

69. In § 116.45(b), after the text “required by 33 U.S.C. 515”, remove the text “the Administrator, Bridge Administration Program” and add, in its place, the text “Chief, Office of Bridge Programs”.

§ 116.55 [Amended]

70. In § 116.55(b), remove the text “Deputy Commandant of Operations, U.S. Coast Guard,(CG-DCO), 2100 2nd St. SW., Stop 7355, Washington, DC 20593-7355” and add, in its place, the text “Commandant (CG-DCO-D), Attn: Deputy for Operations Policy and Capabilities, U.S. Coast Guard Stop 7318, 2703 Martin Luther King Jr. Avenue SE., Washington, DC 20593-7318”.

PART 117—DRAWBRIDGE OPERATION REGULATIONS

71. The authority citation for part 117 continues to read as follows:

Authority: 33 U.S.C. 499; 33 CFR 1.05-1; and Department of Homeland Security Delegation No. 0170.1.

72. Amend § 117.35 by revising paragraphs (c)(2) and (f) to read as follows:

§ 117.35 Temporary change to a drawbridge operating schedule.

* * * * *

(c) * * *

(2) The request must describe the reason for the deviation and the dates and times scheduled for the start and end of the change.

* * * * *

(f) If the authorized deviation period for an event is broken into separate time periods on the same day or on consecutive days, the drawbridge must provide openings for navigation between authorized schedule changes.

* * * * *

§ 117.143 [Amended]

73. In § 117.143, after the words “The draw of the San Joaquin County”, remove the words “highway bridge, mile 1.0 between King Island and Bishop Tract” and add, in their place, the words “(Eight Mile Road) Highway Bridge, mile 1.0 between King Island and Bishop Tract”; and remove the word “shall”, and add, in its place, the word “must”.

74. Revise § 117.233(a) to read as follows:

§ 117.233 Broad Creek.

(a) The draw of the Norfolk Southern Railroad Bridge, mile 8.0 at Laurel, will open on signal if at least 4 hours notice is given.

* * * * *

§ 117.531 [Amended]

75. Amend § 117.531 as follows:

a. In paragraph (b), after the text “The draw of the Memorial (US 1) bridge, mile”, remove the text “3.5” and add, in its place, the text “1.9”; and

b. In paragraph (c) introductory text, after the text “The draw of the Sarah M. Long (Route 1 Bypass) bridge, mile” remove the text “4.0” and add, in its place, the text “2.5”.

§ 117.997 [Amended]

76. In § 117.997(a)(11), after the text “via telephone”, remove the text “(757) 543-1996 or (757) 545-2941” and add in its place the text “757-271-1741 or 757-633-2241”.

PART 118—BRIDGE LIGHTING AND OTHER SIGNALS

77. The authority citation for part 118 continues to read as follows:

Authority: 33 U.S.C. 494; 14 U.S.C. 85, 633; Department of Homeland Security Delegation No. 0170.1.

§ 118.3 [Amended]

78. Amend § 118.3 as follows:

a. In paragraph (b), following the text “for inspection at”, remove the text “U.S. Coast Guard Headquarters, Chief, Office of Bridge Programs, (CG-551), 2100 2nd St. SW., Stop 7580, Washington, DC 20593-7580, or at” and add, in its place, the text “Coast Guard Headquarters. Contact Commandant (CG-BRG), Attn: Office of Bridge Programs, U.S. Coast Guard Stop 7418, 2703 Martin Luther King Jr. Avenue SE., Washington, DC 20593-7418. You may also contact”; and

b. In paragraph (c) after the text, “Federal Highway Administration (FHWA)”, remove the text “400 Seventh Street, SW.” and add, in its place, the text “1200 New Jersey Avenue SE.”.

* * * * *

PART 120—SECURITY OF PASSENGER VESSELS

79. The authority citation for part 120 continues to read as follows:

Authority: 33 U.S.C. 1231; Department of Homeland Security Delegation No. 0170.

§ 120.120 [Amended]

80. In § 120.120(a), following the text “may be inspected at the”, remove the text “U.S. Coast Guard, (CG-521), 2100 2nd St. SW., Stop 7126, Washington, DC 20593-7126” and add, in its place, the text “Coast Guard Headquarters. Contact Commandant (CG-ENG), Attn: Office of Design and Engineering Standards, U.S. Coast Guard Stop 7509, 2703 Martin Luther King Jr. Avenue SE., Washington, DC 20593-7509”.

§ 120.220 [Amended]

81. In § 120.220(b), following the text “as soon as possible to”, remove the text “Commandant (CG-533), 2100 2nd St. SW., Stop 7363, Washington, DC 20593-7363. You may initially file the report with Commandant (CG-533)” and add, in its place, the text “Commandant (CG-MER), Attn: Office of Environmental Response Policy, U.S. Coast Guard Stop 7516, 2703 Martin Luther King Jr. Avenue SE., Washington, DC 20593-7516. You may initially file the report with Commandant (CG-MER)”.

§ 120.305 [Amended]

82. In § 120.305(a), following the text “of this chapter, to the”, remove the text “Commanding Officer (MSC), USCG Marine Safety Center, 1900 Half Street SW., Suite 1000, Room 525, Washington, DC 20024 for visitors. Send all mail to Commanding Officer (MSC), United States Coast Guard, 2100 2nd St. SW., Stop 7102, Washington, DC 20593-7102” and add, in its place the text “Commanding Officer, Marine Safety Center, U.S. Coast Guard, 4200 Wilson Boulevard Suite 400, Arlington, VA 22203 for visitors. Send all mail to Commanding Officer (MSC), Attn: Marine Safety Center, U.S. Coast Guard Stop 7410, 4200 Wilson Boulevard Suite 400, Arlington, VA 20598-7410”.

§ 120.309 [Amended]

83. In § 120.309, following the text “Assistant Commandant for”, remove the text “Marine Safety, Security and Environmental Protection [Commandant (G-M)]” and add, in its place, the text “Prevention Policy (CG-5P)”.

PART 126—HANDLING OF DANGEROUS CARGO AT WATERFRONT FACILITIES

84. The authority citation for part 126 continues to read as follows:

Authority: 33 U.S.C. 1231; 49 CFR 1.46.

§ 126.5 [Amended]

85. In § 126.5(a), following the text “for inspection at the”, remove the text “U.S. Coast Guard, Vessel and Facility Operating Standards Division (CG-522), 2100 2nd St. SW., Stop 7126, Washington, DC 20593-7126, and at” and add, in its place, the text “Coast Guard Headquarters. Contact Commandant (CG-OES), Attn: Office of Operating and Environmental Standards, U.S. Coast Guard Stop 7509, 2703 Martin Luther King Jr. Avenue SE., Washington, DC 20593-7509. You may also contact”.

§ 126.21 [Amended]

86. In § 126.21(d), following the text “in conformity with”, remove the text “§ 126.15(g)” and add, in its place, the text “§ 126.15(b)(5)”.

PART 127—WATERFRONT FACILITIES HANDLING LIQUEFIED NATURAL GAS AND LIQUEFIED HAZARDOUS GAS

87. The authority citation for part 127 continues to read as follows:

Authority: 33 U.S.C. 1231; 46 U.S.C. Chapter 701; Department of Homeland Security Delegation No. 0170.1.

88. In § 127.003(a), following the text “for inspection at the”, remove the text “U.S. Coast Guard, (CG-543), 2100 2nd St. SW., Stop 7581, Washington, DC 20593-7581, and at” and add, in its place, the text “Commandant (CG-CVC), Attn: Office of Commercial Vessel Compliance, U.S. Coast Guard Stop 7501, 2703 Martin Luther King Jr. Avenue SE., Washington, DC 20593-7501. You may also contact”.

§ 127.015 [Amended]

89. In § 127.015(c)(1), remove the text “Assistant Commandant for Marine Safety, Security and Environmental Protection, U.S. Coast Guard, (CG-5), 2100 2nd St. SW., Stop 7355, Washington, DC 20593-7355” and add, in its place, the text “Commandant (CG-5P), Attn: Assistant Commandant for Prevention, U.S. Coast Guard Stop 7501, 2703 Martin Luther King Jr. Avenue SE., Washington, DC 20593-7501”.

PART 128—SECURITY OF PASSENGER TERMINALS

90. The authority citation for part 128 continues to read as follows:

Authority: 33 U.S.C. 1231; 49 CFR 1.46.

§ 128.120 [Amended]

91. In § 128.120(a), following the text “be inspected at the”, remove the text “U.S. Coast Guard, (CG-521), 2100 2nd St. SW., Stop 7126, Washington, DC 20593-7126, and at” and add, in its place, the text “Coast Guard Headquarters. Contact Commandant (CG-ENG), Attn: Office of Design and Engineering Standards, U.S. Coast Guard Stop 7509, 2703 Martin Luther King Jr. Avenue SE., Washington, DC 20593-7509. You may also contact”.

PART 135—OFFSHORE OIL POLLUTION COMPENSATION FUND

92. The authority citation for part 135 continues to read as follows:

Authority: 33 U.S.C. 2701-2719; E.O. 12777, 56 FR 54757; Department of Homeland Security Delegation No. 0170.1, para. 2(80).

§ 135.305 [Amended]

93. In § 135.305(a)(1), remove the text “The Duty Officer, National Response Center, U.S. Coast Guard, (CG-3112), 2100 2nd St. SW., Stop 7238, Washington, DC 20593-7238” and add, in its place, the text “Commandant (CG-MER-3), Attn: Industry and Interagency Coordination Division, U.S. Coast Guard Stop 7516, 2703 Martin Luther King Jr. Avenue SE., Washington, DC 20593-7516”.

PART 140—GENERAL

94. The authority citation for part 140 continues to read as follows:

Authority: 43 U.S.C. 1333, 1348, 1350, 1356; Department of Homeland Security Delegation No. 0170.1.

§ 140.7 [Amended]

95. In § 140.7(a), following the text “available for inspection at”, remove the text “U.S. Coast Guard, Office of Compliance (CG-543), 2100 2nd St. SW., Stop 7581, Washington, DC 20593-7581 and at” and add, in its place, the text “Coast Guard Headquarters. Contact Commandant (CG-CVC), Attn: Office of Commercial Vessel Compliance, U.S. Coast Guard Stop 7501, 2703 Martin Luther King Jr. Avenue SE., Washington, DC 20593-7501. You may also contact”.

§ 140.15 [Amended]

96. In § 140.15(b), following the text “Equipment List, available from”, remove the text “Commandant (CG-521), 2100 2nd St., SW., Stop 7126, Washington, DC 20593-7126” and add, in its place, the text “Coast Guard Headquarters. Contact Commandant (CG-ENG), Attn: Office of Design and Engineering Standards, U.S. Coast Guard Stop 7509, 2703 Martin Luther King Jr. Avenue SE., Washington, DC 20593-7509”.

PART 141—PERSONNEL

97. The authority citation for part 141 continues to read as follows:

Authority: 43 U.S.C. 1356; 46 U.S.C. 70105; 49 CFR 1.46(z).

§ 141.20 [Amended]

98. In § 141.20(c), remove the text “Commandant (CG-543), 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

PART 144—LIFESAVING APPLIANCES

99. The authority citation for part 144 continues to read as follows:

Authority: 43 U.S.C. 1333d; 46 U.S.C. 3102(a); 46 CFR 1.46.

§ 144.30-5 [Amended]

100. In § 144.30-5(a), following the text “should be sent to”, remove the text “Commandant, U.S. Coast Guard, (CG-521), 2100 2nd St. SW., Stop 7126, Washington, DC 20593-7126” and add, in its place, the text “Commandant (CG-ENG-4), Attn: Lifesaving and Fire Safety Division, U.S. Coast Guard Stop 7509, 2703 Martin Luther King Jr. Avenue SE., Washington, DC 20593-7509”.

PART 148—DEEPWATER PORTS: GENERAL

101. The authority citation for part 148 continues to read as follows:

Authority: 33 U.S.C. 1504; Department of Homeland Security Delegation No. 0170.1 (75).

§ 148.5 [Amended]

102. In § 148.5, amend the definition of Commandant (CG-5P) by removing the text “Commandant (CG-5P), U.S. Coast Guard, 2100 Second Street SW., Washington, DC 20593-0001” and adding, in its place, the text “Commandant (CG-5P), Attn: Assistant Commandant for Prevention, U.S. Coast Guard Stop 7501, 2703 Martin Luther King Jr. Avenue SE., Washington, DC 20593-7501”.

§ 148.115 [Amended]

103. In § 148.115(a), remove the text “Commandant (CG-5P), 2100 2nd St. SW., Stop 7126, Washington, DC 20593-7126” and add, in its place, the text “Commandant (CG-5P), Attn: Assistant Commandant for Prevention, U.S. Coast Guard Stop 7501, 2703 Martin Luther King Jr. Avenue SE., Washington, DC 20593-7501”.

PART 151—VESSELS CARRYING OIL, NOXIOUS LIQUID SUBSTANCES, GARBAGE, MUNICIPAL OR COMMERCIAL WASTE, AND BALLAST WATER

104. The authority citation for part 151 continues to read as follows:

Authority: 33 U.S.C. 1321, 1902, 1903, 1908; 46 U.S.C. 6101; Pub. L. 104-227 (110 Stat. 3034); Pub. L. 108-293 (118 Stat. 1063), § 623; E.O. 12777, 3 CFR, 1991 Comp. p. 351; DHS Delegation No. 0170.1, sec. 2(77).

§ 151.27 [Amended]

105. In § 151.27(b), following the text “emergency plan to”, remove the text “Commandant (CG-5431), U.S. Coast Guard, 2100 2nd St. SW., Stop 7581, Washington, DC 20593-7581” and add, in its place, the text “Commandant (CG-CVC-1), Attn: Domestic Vessels Division, U.S. Coast Guard Stop 7501, 2703 Martin Luther King Jr. Avenue SE., Washington, DC 20593-7501”.

§ 151.66 [Amended]

106. In § 151.66(d)(3)(iv)(C), remove the text “Stop 7126” and add, in its place, the text “Stop 7509”.

§ 151.1012 [Amended]

107. In § 151.1012(a) introductory text, remove the text “Commandant (CG-5431), U.S. Coast Guard Headquarters, 2100 2nd St. SW., Stop 7581, Washington, DC 20593-7581, Attn: Shore Protection Act Desk” and add, in its place, the text “Commandant (CG-CVC-1), Attn: Domestic Vessels Division, U.S. Coast Guard Stop 7501, 2703 Martin Luther King Jr. Avenue SE., Washington, DC 20593-7501”.

§ 151.1021 [Amended]

108. In § 151.1021(b)(1), remove the text “Assistant Commandant for Marine Safety, Security, and Stewardship (CG-5), U.S. Coast Guard Headquarters, 2100 2nd St. SW., Stop 7355, Washington, DC 20593-7355” and add, in its place, the text “Commandant (CG-5P), Attn: Assistant Commandant for Prevention, U.S. Coast Guard Stop 7501, 2703 Martin Luther King Jr. Avenue SE., Washington, DC 20593-7501”.

§ 151.1510 [Amended]

109. In § 151.1510(a)(3)(ii), remove the text “Commanding Officer (Marine Safety Center), U.S. Coast Guard Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

§ 151.1513 [Amended]

110. In § 151.1513, following the text “submitted in writing to the”, remove the text “Commandant (CG-522), U.S. Coast Guard Office of Operating and Environmental Standards, 2100 2nd St. SW., Stop 7126, Washington, DC 20593-7126” and add, in its place, the text “Commandant (CG-OES), Attn: Office of Operating and Environmental Standards, U.S. Coast Guard Stop 7509, 2703 Martin Luther King Jr. Avenue SE., Washington, DC 20593-7509”.

§ 151.2025 [Amended]

111. In § 151.2025(b), remove the text “Commanding Officer (Marine Safety Center), U.S. Coast Guard Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

§ 151.2026 [Amended]

112. In § 151.2026(b), remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

§ 151.2036 [Amended]

113. In § 151.2036, following the text “submitted in writing to the”, remove the text “Commandant (CG-522), U.S. Coast Guard Office of Operating and Environmental Standards, 2100 2nd St. SW., Stop 7126, Washington, DC 20593-7126” and add, in its place, the text “Commandant (CG-OES), Attn: Office of Operating and Environmental Standards, U.S. Coast Guard Stop 7509, 2703 Martin Luther King Jr. Avenue SE., Washington, DC 20593-7509”.

PART 153—CONTROL OF POLLUTION BY OIL AND HAZARDOUS SUBSTANCES, DISCHARGE REMOVAL

114. The authority citation for part 153 continues to read as follows:

Authority: 14 U.S.C. 633; 33 U.S.C. 1321, 1903, 1908; 42 U.S.C. 9615; 46 U.S.C. 6101; E.O. 12580, 3 CFR, 1987 Comp., p. 193; E.O. 12777, 3 CFR, 1991 Comp., p. 351; Department of Homeland Security Delegation No. 0170.1.

§ 153.203 [Amended]

115. In § 153.203, following the text “immediately notify the”, remove the text “National Response Center (NRC), U.S. Coast Guard, 2100 2nd St. SW., Stop 7238, Washington, DC 20593-7238” and add, in its place, the text “Commandant (CG-MER-3), Attn: Industry and Interagency Coordination Division, U.S. Coast Guard Stop 7516, 2703 Martin Luther King Jr. Avenue SE., Washington, DC 20593-7516”.

§ 153.411 [Amended]

116. In § 153.411, following the text “in writing from the”, remove the text “Commandant (CG-094), 2100 2nd St. SW., Stop 7238, Washington, DC 20593-7238” and add, in its place, the text “Commandant (CG-094), Attn: Judge Advocate General and Chief Counsel, U.S. Coast Guard Stop 7213, 2703 Martin Luther King Jr. Avenue SE., Washington, DC 20593-7213”.

PART 154—FACILITIES TRANSFERRING OIL OR HAZARDOUS MATERIAL IN BULK

117. The authority citation for part 154 continues to read as follows:

Authority: 33 U.S.C. 1225, 1231, 1321(j)(1)(C), (j)(5), (j)(6), and (m)(2); sec. 2, E.O. 12777, 56 FR 54757; Department of Homeland Security Delegation No. 0170.1. Subpart F is also issued under 33 U.S.C. 2735. Vapor control recovery provisions of Subpart P are also issued under 42 U.S.C. 7511b(f)(2).

§ 154.106 [Amended]

118. In § 154.106(a), following the text “available for inspection at the,” remove the text “Coast Guard, Office of Design and Engineering Standards (CG-ENG), 2100 2nd Street SW., Stop 7126, Washington, DC 20593-7126, telephone 202-372-1418 and at” and add, in its place, the text “Coast Guard Headquarters. Contact Commandant (CG-ENG), Attn: Office of Design and Engineering Standards, U.S. Coast Guard Stop 7509, 2703 Martin Luther King Jr. Avenue SE., Washington, DC 20593-7509, telephone 202-372-1418. You may also contact”.

119. In § 154.1045, revise the “Note to Table 154.1045(i)” to read as follows:

§ 154.1045 Response plan development and evaluation criteria for facilities that handle, store, or transport Group I through Group IV petroleum oils.

* * * * *

Note to Table 154.1045(i): Gulf Coast Tier 1 is higher due to greater potential spill size and frequency in that area, and it is assumed that dispersant stockpiles would be centralized in the Gulf area. Alternative application ratios of peer-reviewed scientific evidence of improved capability may be considered upon submission to Coast Guard Headquarters. Contact Commandant (CG-RI), Attn: Office of Incident Management and Preparedness, U.S. Coast Guard Stop 7516, 2703 Martin Luther King Jr. Avenue SE., Washington, DC 20593-7516; telephone 202-372-2234.

* * * * *

§ 154.2020 [Amended]

120. In § 154.2020(d) introductory text, following the text “those publications, contact the”, remove the text “Coast Guard, Office of Design and Engineering Standards (CG-ENG), 2100 2nd Street SW., Stop 7126, Washington, DC 20593-7126” and add, in its place, the text “Commandant (CG-ENG), Attn: Office of Design and Engineering Standards, U.S. Coast Guard Stop 7509, Washington, DC 20593-7509”.

Appendix A to Part 154 [Amended]

121. In the introductory text of Appendix A to part 154, remove the text “Commandant (CG-522)” and add, in its place, the text “Commandant (CG-ENG)”.

Appendix C to Part 154 [Amended]

122. In Appendix C to part 154, 6.3.2, remove the text “Commandant, (CG-535), 2100 2nd St. SW., Stop 7363, Washington, DC 20593-7363” and add, in its place, the text “Commandant (CG-CPE), Attn: Office of Crisis and Contingency Preparedness and Exercise Policy, U.S. Coast Guard Stop 7516, 2703 Martin Luther King Jr. Avenue SE., Washington, DC 20593-7516”.

PART 155—OIL OR HAZARDOUS MATERIAL POLLUTION PREVENTION REGULATIONS FOR VESSELS

123. The authority citation for part 155 continues to read as follows:

Authority: 3 U.S.C. 301 through 303; 33 U.S.C. 1225, 1231, 1321(j), 1903(b), 2735; E.O. 12777, 56 FR 54757, 3 CFR, 1991 Comp., p. 351; Department of Homeland Security Delegation No. 0170.1. Section 155.480 also issued under section 4110(b) of Pub. L. 101.380.

§ 155.140 [Amended]

124. In § 155.140(a), following the text “Also, it is available for inspection at”, remove the text “the Coast Guard, Office of Vessel Activities, (CG-543), 2100 2nd St. SW., Stop 7581, Washington, DC 20593-7581” and add, in its place, the text “Coast Guard Headquarters. Contact Commandant (CG-CVC), Attn: Office of Commercial Vessel Compliance, U.S. Coast Guard Stop 7501, 2703 Martin Luther King Jr. Avenue SE., Washington, DC 20593-7501”.

§ 155.230 [Amended]

125. In § 155.230(b)(3), following the text “approval of the Commandant”, remove the text “(CG-521)” and add, in its place, the text “(CG-ENG)”.

§ 155.1030 [Amended]

126. In § 155.1030(i)(1), after the text “at a minimum the contents listed in” remove the text “paragraph (c)(1), (2), (3), (5), (6), (7), (9), and (10)” and add, in its place, the text “paragraphs (c)(1), (c)(2), (c)(3), (c)(5), (c)(6), (c)(7), (c)(10) and (c)(11)”.

§ 155.1035 [Amended]

127. In § 155.1035(b)(5)(i), following the text “which is available”, remove the text “through the Office of Operating and Environmental Standards (CG-522), U.S. Coast Guard Headquarters, 2100 2nd St. SW., Stop 7126, Washington, DC 20593-7126” and add, in its place, the text “at Coast Guard Headquarters. Contact Commandant (CG-OES), Attn: Office of Operating and Environmental Standards, U.S. Coast Guard Stop 7509, 2703 Martin Luther King Jr. Avenue SE., Washington, DC 20593-7509”.

§ 155.1065 [Amended]

128. Amend § 155.1065 as follows:

a. In paragraph (a), remove the text “Commandant (CG-5431), Coast Guard, 2100 2nd St. SW., Stop 7581, Washington, DC 20593-7581” and add, in its place, the text “Commandant (CG-CVC-1), Attn: Vessel Response Plans, U.S. Coast Guard Stop 7501, 2703 Martin Luther King Jr. Avenue SE., Washington, DC 20593-7501”; and

b. In paragraph (h), remove the text “Prevention Policy Directorate for Marine Safety, Security, and Stewardship (CG-54). This appeal must be submitted in writing to Commandant (CG-54), Coast Guard, 2100 2nd St. SW., Stop 7581, Washington, DC 20593-7581” and add, in its place, the text “Director of Inspections and Compliance (CG-5PC). This appeal must be submitted in writing to Commandant (CG-5PC), Attn: Director of Inspections and Compliance, U.S. Coast Guard Stop 7501, 2703 Martin Luther King Jr. Avenue SE., Washington, DC 20593-7501”.

§ 155.1070 [Amended]

129. Amend § 155.1070 as follows:

a. In paragraph (a)(2), after the words “the required resubmission, plan amendment, or revision” remove the words “and to document the annual review required by this paragraph (a)”;

b. In paragraph (f) introductory text, following the text “petition for reconsideration to”, remove the text “Office of Commercial Vessel Compliance (CG-CVC), Coast Guard Headquarters, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”; and

c. In paragraph (g), following the text “submitted in writing to Commandant (CG-5PC),” remove the text “Director of Inspections and Compliance, U.S. Coast Guard, 2100 2nd St. SW Stop 7581, Washington, DC 20593-7581.” and add, in its place, the text “Attn: Director of Inspections and Compliance, U.S. Coast Guard Stop 7501, 2703 Martin Luther King Jr. Avenue SE., Washington, DC 20593-7501.”.

§ 155.4055 [Amended]

130. In § 155.4055(d) and (f), remove the text “(CG-54)” wherever it appears, and add, in its place, the text “(CG-5P)”.

§ 155.5020 [Amended]

131. In § 155.5020, in paragraph (5)(i) of the definition of Contract or other approved, after the words “Nontank vessels with a fuel”, remove the word “and” and add, in its place, the word “or”.

132. In § 155.5050, revise Table 155.5050(p) to read as follows:

§ 155.5050 Response plan development and evaluation criteria for nontank vessels carrying groups I through IV petroleum oil.

* * * * *

(p) * * *

Table 155.5050(p)—Nontank Vessel Response Plan Required Response Resources Matrix
Nontank vessel's fuel or cargo oil capacity | AMPD | MMPD | WCD | Salvage | Emergency lightering | Fire fighting | Dispersant ³ | Aerial tracking ⁴ | Shoreline protection | Shore line cleanup
2,500 barrels or greater | NO ¹ | YES | YES | YES | YES | YES | YES | YES | YES | YES.
Less than 2,500 barrels, but greater than or equal to 250 barrels | NO ¹ | YES | NO | YES ² | YES ² | YES ² | YES ² | YES ² | YES | YES.
Less than 250 barrels | NO ¹ | YES ² | NO | YES ² | NO | NO | NO | NO | NO | NO.
¹ For nontank vessels carrying oil as fuel only. Nontank vessels carrying oil as cargo must meet AMPD response resources in 33 CFR 155.5050(d)(1) as applicable.
² The indicated response resources that must be located within the stipulated response times in the specified geographic areas need only be identified and planned for in the VRP, but not ensured available by contract. Submission of a written consent from the response resource provider must accompany the VRP for approval. This is considered an acceptable “other approved means.” See 33 CFR 155.5020, “Contract or other approved means”, paragraph (5).

* * * * *

§ 155.5065 [Amended]

133. In § 155.5065(a), following the text “submit one complete English language copy of a vessel response plan (VRP) to”, remove the text “Commandant (CG-CVC), Office of Commercial Vessel Compliance, U.S. Coast Guard, 2100 2nd St. SW. Stop 7581, Washington, DC 20593-7581, Attn: Vessel Response Plan Review Team.” and add, in its place, the text “Commandant (CG-CVC-1), Attn: Vessel Response Plans, U.S. Coast Guard Stop 7501, 2703 Martin Luther King Jr. Avenue SE., Washington, DC 20593-7501.”.

§ 155.5075 [Amended]

134. Amend § 155.5075 as follows:

a. In paragraph (a), following the text “may submit a petition for reconsideration to the Commandant (CG-5PC),”, add the text “Attn:”; and following the text “, Director of Inspections and Compliance,” remove the text “U.S. Coast Guard, 2100 2nd St. SW Stop 7581, Washington, DC 20593-7581” and add, in its place, the text “U.S. Coast Guard Stop 7501, 2703 Martin Luther King Jr. Avenue SE., Washington, DC 20593-7501”; and

b. In paragraph (b), following the text “may appeal that determination to the”, remove the text “Director of Inspections and Compliance. This appeal must be submitted in writing to Commandant (CG-5PC), Director of Inspections and Compliance, U.S. Coast Guard, 2100 2nd St. SW. Stop 7581, Washington, DC 20593-7581.” and add, in its place, the text “Director of Inspections and Compliance (CG-5PC). This appeal must be submitted in writing to Commandant (CG-5PC), Attn: Director of Inspections and Compliance, U.S. Coast Guard Stop 7501, 2703 Martin Luther King Jr. Avenue SE., Washington, DC 20593-7501.”.

Appendix B to Part 155 [Amended]

135. In Appendix B to part 155, 6.5, following the text “will be made by”, remove the text “Commandant (CG-5431), Coast Guard Headquarters, 2100 2nd St. SW., Stop 7581, Washington, DC 20593-7581” and add, in its place, the text “Commandant (CG-CVC-1), Attn: Vessel Response Plans, U.S. Coast Guard Stop 7501, 2703 Martin Luther King Jr. Avenue SE., Washington, DC 20593-7501”.

PART 156—OIL AND HAZARDOUS MATERIAL TRANSFER OPERATIONS

136. The authority citation for part 156 continues to read as follows:

Authority: 33 U.S.C. 1225, 1231, 1321(j); 46 U.S.C. 3703, 3703a, 3715; E.O. 11735, 3 CFR 1971-1975 Comp., p. 793; Department of Homeland Security Delegation No. 0170.1.

§ 156.111 [Amended]

137. In § 156.111(a), following the text “for inspection at the”, remove the text “U.S. Coast Guard, Office of Compliance (CG-543), 2100 2nd St. SW., Stop 7581, Washington, DC 20593-7581 and” and add, in its place, the text “Coast Guard Headquarters. Contact Commandant (CG-CVC), Attn: Office of Commercial Vessel Compliance, U.S. Coast Guard Stop 7501, 2703 Martin Luther King Jr. Avenue SE., Washington, DC 20593-7501. You may also inspect the material”.

PART 157—RULES FOR THE PROTECTION OF THE MARINE ENVIRONMENT RELATING TO TANK VESSELS CARRYING OIL IN BULK

138. The authority citation for part 157 continues to read as follows:

Authority: 33 U.S.C. 1903; 46 U.S.C. 3703, 3703a (note); Department of Homeland Security Delegation No. 0170.1. Subparts G, H, and I are also issued under section 4115(b), Pub. L. 101-380, 104 Stat. 520; Pub. L. 104-55, 109 Stat. 546.

§ 157.02 [Amended]

139. In § 157.02(a), following the text “Also, it is available for inspection at the”, remove the text “Coast Guard, Systems Engineering Division (CG-5213), Office of Design and Engineering Standards, U.S. Coast Guard, 2100 2nd St. SW., Stop 7126, Washington, DC 20593-7126, telephone 202-372-1379, and is” and add, in its place, the text “Coast Guard Headquarters. Contact Commandant (CG-ENG), Attn: Office of Design and Engineering Standards, U.S. Coast Guard Stop 7509, 2703 Martin Luther King Jr. Avenue SE., Washington, DC 20593-7509; telephone 202-372-1375. The material is also”.

§ 157.03 [Amended]

140. In § 157.03, in the definition of “Major conversion” paragraph (4), remove the text “(CG-543)” and add, in its place, the text “(CG-CVC)”.

§ 157.04 [Amended]

141. Amend § 157.04 as follows:

a. In paragraph (b), following the text “it must submit to the”, remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”; and

b. In paragraph (d)(5), remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.06 [Amended]

142. Amend § 157.06 as follows:

a. In paragraph (c), remove the text “Assistant Commandant for Marine Safety, Security, and Stewardship (CG-5), U.S. Coast Guard, 2100 2nd St. SW., Stop 7355, Washington, DC 20593-7355”, and add, in its place, the text “Commandant (CG-5P), Attn: Assistant Commandant for Prevention, U.S. Coast Guard Stop 7501, 2703 Martin Luther King Jr. Avenue SE., Washington, DC 20593-7501”; and following the text “If requested the,” remove the text “Assistant Commandant for Marine Safety, Security and Stewardship (CG-5)” and add, in its place, the text “Deputy for Operations Policy and Capabilities (CG-DCO-D)”; and

b. In paragraph (d), remove the text “Assistant Commandant for Marine Safety, Security, and Stewardship (CG-5)” and add, in its place, the text “Assistant Commandant for Prevention (CG-5P)”.

§ 157.24a [Amended]

143. Amend § 157.24a as follows:

a. In paragraph (b)(1), remove the text “Commandant (CG-543), U.S. Coast Guard, Washington, DC 20593-0001” and add, in its place, the text “Commandant (CG-CVC), Attn: Office of Commercial Vessel Compliance, U.S. Coast Guard Stop 7501, 2703 Martin Luther King Jr. Avenue SE., Washington, DC 20593-7501”; and

b. In paragraph (c)(1), remove the text “Commandant (CG-543), U.S. Coast Guard, Washington, DC 20593-0001” and add, in its place, the text “Commandant (CG-CVC), Attn: Office of Commercial Vessel Compliance, U.S. Coast Guard Stop 7501, 2703 Martin Luther King Jr. Avenue SE., Washington, DC 20593-7501”.

§ 157.100 [Amended]

144. In § 157.100(b), following the text “system is installed or to the”, remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

§ 157.102 [Amended]

145. In § 157.102 introductory text, following the text “or operator must submit to the”, remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.110 [Amended]

146. In § 157.110, following the text “meets § 157.138 to the”, remove the text “Commandant (CG-543), U.S. Coast Guard, Washington, DC 20593-1000” and add, in its place, the text “Commandant (CG-CVC), Attn: Office of Commercial Vessel Compliance, U.S. Coast Guard Stop 7501, 2703 Martin Luther King Jr. Avenue SE., Washington, DC 20593-7501”.

§ 157.144 [Amended]

147. In § 157.144(a), following the text “written request to the”, remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.147 [Amended]

148. In § 157.147(a), following the text “written request to the”, remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.200 [Amended]

149. In § 157.200(b), following the text “installed or to the”, remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

§ 157.202 [Amended]

150. In § 157.202 introductory text, following the text “under § 150.10c(c)(2) must submit to the”, remove the text “Commandant (CG-543), U.S. Coast Guard, Washington, DC 20593-0001” and add, in its place, the text “Commandant (CG-CVC), Attn: Office of Commercial Vessel Compliance, U.S. Coast Guard Stop 7501, 2703 Martin Luther King Jr. Avenue SE., Washington, DC 20593-7501”.

§ 157.208 [Amended]

151. In § 157.208, following the text “meets § 157.224 to the”, remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.302 [Amended]

152. In § 157.302(a), remove the text “Commandant (CG-543), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.306 [Amended]

153. Amend § 157.306 as follows:

a. In paragraph (a), remove the words “The Assistant Commandant for Marine Safety, Security and Environmental Protection” and add, in their place, the words “The Assistant Commandant for Prevention”.

b. In paragraph (c), remove the text “Commandant (CG-543), U.S Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

§ 157.430 [Amended]

154. In § 157.430(b), remove the text “Commandant (CG-543)” wherever it appears, and add, in its place, the text “Commandant (CG-CVC)”.

PART 158—RECEPTION FACILITIES FOR OIL, NOXIOUS LIQUID SUBSTANCES, AND GARBAGE

155. The authority citation for part 158 continues to read as follows:

Authority: 33 U.S.C. 1903(b), 1905(c); 49 CFR 1.46.

§ 158.190 [Amended]

156. In § 158.190(c)(1), following the text “after the ruling to the”, remove the text “Assistant Commandant for Marine Safety, Security and Environmental Protection, U.S. Coast Guard, (CG-5), 2100 2nd St. SW., Stop 7355, Washington, DC 20593-7355” and add, in its place, the text “Commandant (CG-5P), Attn: Deputy for Operations Policy and Capabilities, U.S. Coast Guard Stop 7501, 2703 Martin Luther King Jr. Avenue SE., Washington, DC 20593-7501”.

PART 159—MARINE SANITATION DEVICES

157. The authority citation for part 159 continues to read as follows:

Authority: 33 U.S.C. 1322(b)(1); 49 CFR 1.45(b). Subpart E also issued under authority of sec. 1(a)(4), Pub. L. 106-554, 114 Stat. 2763; Department of Homeland Security Delegation No. 0170.1.

§ 159.4 [Amended]

158. In § 159.4(a), following the text “for inspection at the”, remove the text “Engineering Division, U.S. Coast Guard Marine Safety Center, 2100 2nd St. SW., Stop 7102, Washington, DC 20593-7102, and at” and add, in its place, the text “the Marine Safety Center. Contact Commanding Officer (MSC), Attn: Marine Safety Center, U.S. Coast Guard Stop 7410, 4200 Wilson Boulevard, Suite 400, Arlington, VA 20598-7410. You may also contact”.

§ 159.12 [Amended]

159. In § 159.12(c) introductory text, remove the text “Commanding Officer, USCG Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

§ 159.15 [Amended]

160. Amend § 159.15 as follows:

a. In paragraph (a), following the text “§ 159.101 and submit to the”, remove the text “Commanding Officer, USCG Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”; and

b. In paragraph (c) following the text “appeal a denial to the”, remove the text “Commanding Officer, USCG Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

§ 159.17 [Amended]

161. Amend § 159.17 as follows:

a. In paragraph (a), following the text “notify the”, remove the text “Commanding Officer, USCG Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”; and

b. In paragraph (c), following the text “this determination to the”, remove the text “Commandant (CG-52), 2100 2nd St. SW., Stop 7126, Washington, DC 20593-7126” and add, in its place, the text “Commandant (CG-PS), Attn: Director of Commercial Regulations and Standards, U.S. Coast Guard Stop 7509, 2703 Martin Luther King Jr. Avenue SE., Washington, DC 20593-7509”.

§ 159.19 [Amended]

162. In § 159.19(a), following the text “manufacturer may apply to the”, remove the text “Commanding Officer, USCG Marine Safety Center, 2100 2nd St. SW., Stop 7102, Washington, DC 20593-7102” and add, in its place, the text “Commanding Officer (MSC), Attn: Marine Safety Center, U.S. Coast Guard Stop 7410, 4200 Wilson Boulevard, Suite 400, Arlington, VA 20598-7410”.

PART 160—PORTS AND WATERWAYS SAFETY—GENERAL

163. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

164. In § 160.7, revise paragraph (d) to read as follows:

§ 160.7 Appeals.

* * * * *

(d) Any person who receives an unfavorable ruling on an appeal taken under paragraph (c) of this section, may appeal to the Commandant (CG-5P), Attn: Assistant Commandant for Prevention, U.S. Coast Guard Stop 7501, 2703 Martin Luther King Jr. Avenue SE., Washington, DC 20593-7501. The appeal must be in writing, except as allowed under paragraph (e) of this section. The Area Commander forwards the appeal, all the documents and evidence which formed the record upon which the order or direction was issued or the ruling under paragraph (c) of this section was made, and any comments which might be relevant, to the Assistant Commandant for Prevention. A copy of this documentation and evidence is made available to the appellant. The appellant is afforded 5 working days from the date of receipt to submit rebuttal materials to the Assistant Commandant for Prevention. The decision of the Assistant Commandant for Prevention is based upon the materials submitted, without oral argument or presentation. The decision of the Assistant Commandant for Prevention is issued in writing and constitutes final agency action.

* * * * *

PART 161—VESSEL TRAFFIC MANAGEMENT

165. The authority citation for part 161 continues to read as follows:

Authority: 33 U.S.C. 1223, 1231; 46 U.S.C. 70114, 70119; Pub. L. 107-295, 116 Stat. 2064; Department of Homeland Security Delegation No. 0170.1.

166. Amend § 161.12 as follows:

a. Revise Table 161.12(c) to read as set forth below; and

b. In paragraph (d)(5), following the text “as defined in” remove the text “§ 160.203” and add, in its place, the text“§ 160.204”.

§ 161.12 Vessel operating requirements.

* * * * *

(c) * * *

Table 161.12(c)—VTS and VMRS Centers, Call Signs/MMSI, Designated Frequencies, and Monitoring Areas
Center MMSI ¹ call sign | Designated frequency (channel designation)— purpose ² | Monitoring area 3 4
Berwick Bay—003669950:
Berwick Traffic | 156.550 MHz (Ch. 11) | The waters south of 29°45.00′ N., west of 91°10.00′ W., north of 29°37.00′ N., and east of 91°18.00′ W.
Buzzards Bay:
Buzzards Bay Control ⁵ | 156.600 MHz (Ch. 12) | The waters east and north of a line drawn from the southern tangent of Sakonnet Point, Rhode Island, in approximate position latitude 41°27.20′ N., longitude 71°11.70′ W., to the Buzzards Bay Entrance Light in approximate position latitude 41°23.8′ N., longitude 71°02.00′ W., and then to the southwestern tangent of Cuttyhunk Island, Massachusetts, at approximate position latitude 41°24.60′ N., longitude 70°57.00′ W., and including all of the Cape Cod Canal to its eastern entrance, except that the area of New Bedford Harbor within the confines (north of) the hurricane barrier, and the passages through the Elizabeth Islands, is not considered to be “Buzzards Bay”.
Houston-Galveston—003669954 |  | The navigable waters north of 29°00.00′ N., west of 94°20.00′ W., south of 29°49.00′ N., and east of 95°20.00′ W.
Houston Traffic | 156.550 MHz (Ch. 11) 156.250 MHz (Ch. 5A).—For Sailing Plans only | The navigable waters north of a line extending due west from the southernmost end of Exxon Dock #1 (20°43.37′ N., 95°01.27′ W.).
Houston Traffic | 156.600 MHz (Ch. 12) 156.250 MHz (Ch. 5A).—For Sailing Plans only | The navigable waters south of a line extending due west from the southernmost end of Exxon Dock #1 (29°43.37′ N., 95°01.27′ W.).
Los Angeles-Long Beach—03660465:
San Pedro Traffic | 156.700 MHz (Ch. 14) | Vessel Movement Reporting System Area: The navigable waters within a 25 nautical mile radius of Point Fermin Light (33°42.30′ N., 118°17.60′ W.).
Louisville—003669732:
Louisville Traffic | 156.650 MHz (Ch. 13) | The waters of the Ohio River between McAlpine Locks (Mile 606) and Twelve Mile Island (Mile 593), only when the McAlpine upper pool gauge is at approximately 13.0 feet or above.
Lower Mississippi River—0036699952:
New Orleans Traffic | 156.550 MHz (Ch. 11) | The navigable waters of the Lower Mississippi River below 29°55.30′ N., 89°55.60′ W. (Saxonholm Light) at 86.0 miles Above Head of Passes (AHP), extending down river to Southwest Pass, and, within a 12 nautical mile radius around 28°54.30′ N., 89°25.70′ W. (Southwest Pass Entrance Light) at 20.1 miles Below Head of Passes (BHP).
New Orleans Traffic | 156.600 MHz (Ch. 12) | The navigable waters of the Lower Mississippi River bounded on the north by a line drawn perpendicular on the river at 29°55.50′ N., 90°12.77′ W. (Upper Twelve Mile Point) at 109.0 miles AHP and on the south by a line drawn perpendicularly at 29°55.30′ N., 89°55.60′ W. (Saxonholm Light) at 86.0 miles AHP.
New Orleans Traffic | 156.250 MHz (Ch. 05A) | The navigable waters of the Lower Mississippi River below 30°38.70′ N., 91°17.50′ W. (Port Hudson Light) at 254.5 miles AHP bounded on the south by a line drawn perpendicular on the river at 29°55.50′ N., 90°12.77′ W. (Upper Twelve Mile Point) at 109.0 miles AHP.
New York—003669951:
New York Traffic | 156.550 MHz (Ch. 11)—For Sailing Plans only 156.600 MHz (Ch. 12).—For vessels at anchor | The area consists of the navigable waters of the Lower New York Bay bounded on the east by a line drawn from Norton Point to Breezy Point; on the south by a line connecting the entrance buoys at the Ambrose Channel, Swash Channel, and Sandy Hook Channel to Sandy Hook Point; and on the southeast including the waters of Sandy Hook Bay south to a line drawn at latitude 40°25.00′ N.; then west in the Raritan Bay to the Raritan River Railroad Bridge, then north into waters of the Arthur Kill and Newark Bay to the Lehigh Valley Draw Bridge at latitude 40°41.90′ N.; and then east including the waters of the Kill Van Kull (KVK) and the Upper New York Bay north to a line drawn east-west from the Holland Tunnel ventilator shaft at latitude 40°43.70′ N., longitude 74°01.60′ W., in the Hudson River; and then continuing east including the waters of the East River to the Throgs Neck Bridge, excluding the Harlem River.
New York Traffic | 156.700 MHz (Ch. 14) | The navigable waters of the Lower New York Bay west of a line drawn from Norton Point to Breezy Point; and north of a line connecting the entrance buoys of Ambrose Channel, Swash Channel, and Sandy Hook Channel, to Sandy Hook Point; on the southeast including the waters of the Sandy Hook Bay south to a line drawn at latitude 40°25.00′ N.; then west into the waters of Raritan Bay East Reach to a line drawn from Great Kills Light south through Raritan Bay East Reach LGB #14 to Comfort Point, NJ; then north including the waters of the Upper New York Bay south of 40°42.40′ N. (Brooklyn Bridge) and 40°43.70′ N. (Holland Tunnel Ventilator Shaft); west through the KVK into the Arthur Kill north of 40°38.25′ N. (Arthur Kill Railroad Bridge); then north into the waters of the Newark Bay, south of 40°41.95′ N. (Lehigh Valley Draw Bridge).
New York Traffic | 156.600 MHz (Ch. 12) | The navigable waters of the Raritan Bay south to a line drawn at latitude 40°26.00′ N.; then west of a line drawn from Great Kills Light south through the Raritan Bay East Reach LGB #14 to Point Comfort, NJ; then west to the Raritan River Railroad Bridge; and north including the waters of the Arthur Kill to 40°28.25′ N. (Arthur Kill Railroad Bridge); including the waters of the East River north of 40°42.40′ N. (Brooklyn Bridge) to the Throgs Neck Bridge, excluding the Harlem River.
Port Arthur—003669955:
Port Arthur Traffic | 156.050 MHz (Ch. 01A) | The navigable waters of the Sabine-Neches Canal south of 29°52.70′ N.; Port Arthur Canal; Sabine Pass Channel; Sabine Bank Channel; Sabine Outer Bar Channel; the offshore safety fairway; and the ICW from High Island to its intersection with the Sabine-Neches Canal.
Port Arthur Traffic | 156.275 MHz (Ch. 65A) | The navigable waters of the Neches River; Sabine River; and Sabine-Neches Waterway north of 29°52.70′ N.; and the ICW from its intersection with the Sabine River to MM 260.
Port Arthur Traffic | 156.675 MHz (Ch. 73) ⁶ | The navigable waters of the Calcasieu Channel; Calcasieu River Channel; and the ICW from MM 260 to MM 191.
Prince William Sound—003669958:
Valdez Traffic | 156.650 MHz (CH. 13) | The navigable waters south of 61°05.00′ N., east of 147°20.00′ W., north of 60°00.00′ N., and west of 146°30.00′ W.; and, all navigable waters in Port Valdez.
Puget Sound: ⁷
Seattle Traffic—003669957 | 156.700 MHz (Ch. 14) | The waters of Puget Sound, Hood Canal and adjacent waters south of a line connecting Nodule Point and Bush Point in Admiralty Inlet and south of a line drawn due east from the southernmost tip of Possession Point on Whidbey Island to the shoreline.
Seattle Traffic—003669957 | 156.250 MHz (Ch. 5A) | The waters of the Strait of Juan de Fuca east of 124°40.00′ W. excluding the waters in the central portion of the Strait of Juan de Fuca north and east of Race Rocks; the navigable waters of the Strait of Georgia east of 122°52.00′ W.; the San Juan Island Archipelago, Rosario Strait, Bellingham Bay; Admiralty Inlet north of a line connecting Nodule Point and Bush Point and all waters east of Whidbey Island north of a line drawn due east from the southernmost tip of Possession Point on Whidbey Island to the shoreline.
Tofino Traffic—003160012 | 156.725 MHz (Ch. 74) | The waters west of 124°40.00′ W. within 50 nautical miles of the coast of Vancouver Island including the waters north of 48°00.00′ N., and east of 127°00.00′ W.
Victoria Traffic—003160010 | 156.550 MHz (Ch. 11) | The waters of the Strait of Georgia west of 122°52.00′ W., the navigable waters of the central Strait of Juan de Fuca north and east of Race Rocks, including the Gulf Island Archipelago, Boundary Pass and Haro Strait.
San Francisco—003669956:
San Francisco Traffic | 156.700 MHz (Ch. 14) | The navigable waters of the San Francisco Offshore Precautionary Area, the navigable waters shoreward of the San Francisco Offshore Precautionary Area east of 122°42.00′ W. and north of 37°40.00′ N. extending eastward through the Golden Gate, and the navigable waters of San Francisco Bay and as far east as the port of Stockton on the San Joaquin River, as far north as the port of Sacramento on the Sacramento River.
San Francisco Traffic | 156.600 MHz (Ch. 12) | The navigable waters within a 38 nautical mile radius of Mount Tamalpais (37°55.80′ N., 122°34.60′ W.) west of 122°42.00′ W. and south of 37°40.00′ N. and excluding the San Francisco Offshore Precautionary Area.
St. Mary's River—003669953:
Soo Traffic | 156.600 MHz (Ch. 12) | The waters of the St. Mary's River and lower Whitefish Bay from 45°57.00′ N. (De Tour Reef Light) to the south, to 46°38.70′ N. (Ile Parisienne Light) to the north, except the waters of the St. Mary's Falls Canal and to the east along a line from La Pointe to Sims Point, within Potagannissing Bay and Worsley Bay.
Notes:
¹ Maritime Mobile Service Identifier (MMSI) is a unique nine-digit number assigned that identifies ship stations, ship earth stations, coast stations, coast earth stations, and group calls for use by a digital selective calling (DSC) radio, an INMARSAT ship earth station or AIS. AIS requirements are set forth in §§ 161.21 and 164.46 of this subchapter. The requirements set forth in §§ 161.21 and 164.46 of this subchapter apply in those areas denoted with an MMSI number, except for Louisville and Los Angeles/Long Beach.
² In the event of a communication failure, difficulties or other safety factors, the Center may direct or permit a user to monitor and report on any other designated monitoring frequency or the bridge-to-bridge navigational frequency, 156.650 MHz (Channel 13) or 156.375 MHz (Channel 67), to the extent that doing so provides a level of safety beyond that provided by other means. The bridge-to-bridge navigational frequency, 156.650 MHz (Ch. 13) is used in certain monitoring areas where the level of reporting does not warrant a designated frequency.
³ All geographic coordinates (latitude and longitude) are expressed in North American Datum of 1983 (NAD 83).
⁴ Some monitoring areas extend beyond navigable waters. Although not required, users are strongly encouraged to maintain a listening watch on the designated monitoring frequency in these areas. Otherwise, they are required to maintain watch as stated in 47 CFR 80.148.
⁵ In addition to the vessels denoted in Section 161.16 of this chapter, requirements set forth in subpart B of 33 CFR part 161 also apply to any vessel transiting VMRS Buzzards Bay required to carry a bridge-to-bridge radiotelephone by part 26 of this chapter.
⁶ Until otherwise directed, full VTS services will not be available in the Calcasieu Channel, Calcasieu River Channel, and the ICW from MM 260 to MM 191. Vessels may contact Port Arthur Traffic on the designated VTS frequency to request advisories, but are not required to monitor the VTS frequency in this sector.
⁷ A Cooperative Vessel Traffic Service was established by the United States and Canada within adjoining waters. The appropriate Center administers the rules issued by both nations; however, enforces only its own set of rules within its jurisdiction. Note, the bridge-to-bridge navigational frequency, 156.650 MHz (Ch. 13), is not so designated in Canadian waters, therefore users are encouraged and permitted to make passing arrangements on the designated monitoring frequencies.

* * * * *

167. In § 161.55, revise paragraph (c)(3) and add paragraph (c)(4) to read as follows:

§ 161.55 Vessel Traffic Service Puget Sound and the Cooperative Vessel Traffic Service for the Juan de Fuca Region.

* * * * *

(c) * * *

(3) A vessel of 100 meters or more in length is exempt from the provisions set forth in § 161.13(b)(3) of this part.

(4) Approval will not be granted for:

(i) A vessel of 100 meters or more in length to meet or overtake a vessel of 40,000 dead weight tons or more;

(ii) A vessel of 40,000 dead weight tons or more to meet or overtake a vessel of 100 meters or more in length;

(iii) A vessel of 100 meters or more in length to cross or operate within 2,000 yards (except when crossing astern) of a vessel of 40,000 deadweight tons or more; or

(iv) A vessel of 40,000 dead weight tons or more to cross or operate within 2,000 yards (except when crossing astern) of a vessel of 100 meters or more in length.

* * * * *

PART 164—NAVIGATION SAFETY REGULATIONS

168. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.03 [Amended]

169. In § 164.03(a), following the text “available for inspection at the”, remove the text “Navigation Systems Division (CG-553), Coast Guard Headquarters, 2100 2nd St. SW., Stop 7580, Washington, DC 20593-7580 and” and add, in its place, the text “Coast Guard Headquarters. Contact Commandant (CG-NAV), Attn: Office of Navigation Systems, U.S. Coast Guard Stop 7418, 2703 Martin Luther King Jr. Avenue SE., Washington, DC 20593-7418. The material is also available”.

§ 164.41 [Amended]

170. In § 164.41(b), following the text “describing the device to the”, remove the text “Coast Guard Deputy Commander for Operations (CG-DCO), 2100 2nd St. SW., Stop 7471, Washington, DC 20593-7471” and add, in its place, the text “Commandant (CG-DCO-D), Attn: Deputy for Operations Policy and Capabilities, U.S. Coast Guard Stop 7318, 2703 Martin Luther King Jr. Avenue SE., Washington, DC 20593-7318”.

PART 165—REGULATED NAVIGATION AREAS AND LIMITED ACCESS AREAS

171. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

172. In § 165.117, revise paragraph (a)(3) to read as follows:

§ 165.117 Regulated Navigation Areas, Safety and Security Zones: Deepwater Ports, First Coast Guard District.

(a) * * *

(3) Coordinates. (i) The geographic coordinates forming the loci for the regulated navigation areas, safety and security zones for the Northeast Gateway Deepwater Port are: 42°23′38″ N., 070°35′31″ W.; and 42°23′56″ N., 070°37′00″ W. (NAD 83).

(ii) The geographic coordinates forming the loci for the regulated navigation areas, safety, and security zones for Neptune Deepwater Port are: 42°29′12.3″ N., 70°36′29.7″ W.; and 42°27′20.5″ N., 70°36′07.3″ W. (NAD 83).

(iii) [Reserved]

* * * * *

§ 165.122 [Amended]

173. In § 165.122(b)(6), following the text “the Inland Navigation Rules (set forth in”, remove the text “U.S.C. 2005 et seq.” and add, in its place, the text “33 CFR Part 83”.

174. In § 165.151, revise Table 1 to § 165.151 to read as follows:

§ 165.151 Safety Zones; Fireworks Displays, Air Shows and Swim Events in the Captain of the Port Long Island Sound Zone.

* * * * *

(j) * * *

Table 1 to § 165.151
2 | February
2.1 Sag Harbor COC Winter Harbor Frost Fireworks | Date: A day during the first or second weekend of February from 6:15 p.m. until 6:45 p.m.
| Location: Waters of Sag Harbor off Long Wharf St. Pier, Sag Harbor, NY in approximate position 41°00′16.82″ N., 072°17′43.78″ W. (NAD 83).
4 | April
4.1 Bridgeport Bluefish April Fireworks | • Location: Waters of the Pequannock River's Lower Reach surrounding Steel Point, Bridgeport, CT in approximate position 41°10′35″ N., 073°10′58″ W. (NAD 83).
5 | May
5.1 Jones Beach Air Show | • Date: The Thursday through Sunday before Memorial Day each May from 9:30 a.m. until 3:30 p.m. each day.
| • Location: Waters of the Atlantic Ocean off Jones Beach State Park, Wantagh, NY contained within the following described area; beginning in approximate position 40°34′54” N., 073°33′21” W., then running east along the shoreline of Jones Beach State Park to approximate position 40°35′53” N., 073°28′47” W.; then running south to a position in the Atlantic Ocean off of Jones Beach at approximate position 40°35′05” N., 073°28′34” W.; then running West to approximate position 40°33′15” N., 073°33′09” W.; then running North to the point of origin.
5.2 Greenport Spring Fireworks | • Date: A day during the last week of May or first week of June.
| • Location: Waters of Greenport Harbor off Mitchell Park and Marina, Greenport, NY in approximate position 41°05′59.09″ N., 072°21′31.44″ W. (NAD 83).
6 | June
6.1 Barnum Festival Fireworks | • Date: Last Saturday in June.
| • Rain date: Following Saturday.
| • Time: 8:30 p.m. to 10:30 p.m.
| • Location: Waters of Bridgeport Harbor, Bridgeport, CT in approximate position 41°9′04″ N., 073°12′49″ W. (NAD 83).
6.2 Town of Branford Fireworks | • Location: Waters of Branford Harbor, Branford, CT in approximate position, 41°15′30″ N., 072°49′22″ W. (NAD 83).
6.3 Vietnam Veterans/Town of East Haven Fireworks | • Location: Waters off Cosey Beach, East Haven, CT in approximate position, 41°14′19″ N., 072°52′9.8″ W. (NAD 83).
6.4 Salute to Veterans Fireworks | • Date: The third Saturday of June.
| • Rain date: The fourth Saturday of June.
| • Location: Waters of Reynolds Channel off Hempstead, NY in approximate position 40°35′36.62″ N., 073°35′20.72″ W. (NAD 83).
6.5 Cherry Grove Arts Project Fireworks | • Date: A single day during the first two weeks of June.
| • Location: Waters of the Great South Bay off Cherry Grove, NY in approximate position 40°39′49.06″ N., 073°05′27.99″ W. (NAD 83).
6.6 Bridgeport Bluefish June Fireworks | • Location: Waters of the Pequannock River's Lower Reach surrounding Steel Point, Bridgeport, CT in approximate position 41°10′35″ N., 073°10′58″ W. (NAD 83).
7 | July
7.1 Point O'Woods Fire Company Summer Fireworks | • Location: Waters of the Great South Bay, Point O'Woods, NY in approximate position 40°39′18.57″ N., 073°08′5.73″ W. (NAD 83).
7.2 Cancer Center for Kids Fireworks | • Location: Waters off of Bayville, NY in approximate position 40°54′38.20″ N., 073°34′56.88″ W. (NAD 83).
7.3 City of Westbrook, CT July Celebration Fireworks | • Location: Waters of Westbrook Harbor, Westbrook, CT in approximate position, 41°16′10.50″ N., 072°26′14″ W. (NAD 83).
7.4 Norwalk Fireworks | • Location: Waters off Calf Pasture Beach, Norwalk, CT in approximate position, 41°04′50″ N., 073°23′22″ W. (NAD 83).
7.5 Lawrence Beach Club Fireworks | • Location: Waters of the Atlantic Ocean off Lawrence Beach Club, Atlantic Beach, NY in approximate position 40°34′42.65″ N., 073°42′56.02″ W. (NAD 83).
7.6 Sag Harbor Fireworks | • Location: Waters of Sag Harbor Bay off Havens Beach, Sag Harbor, NY in approximate position 41°00′26″ N., 072°17′9″ W. (NAD 83).
7.7 South Hampton Fresh Air Home Fireworks | • Location: Waters of Shinnecock Bay, Southampton, NY in approximate position, 40°51′48″ N., 072°26′30″ W. (NAD 83).
7.8 Westport Police Athletic League Fireworks | • Location: Waters off Compo Beach, Westport, CT in approximate position, 41°06′15″ N., 073°20′57″ W. (NAD 83).
7.9 City of Middletown Fireworks | • Date: July 4.
| • Rain date: July 5.
| • Time: 8:30 p.m. to 10:30 p.m.
| • Location: Waters of the Connecticut River, Middletown Harbor, Middletown, CT in approximate position 41°33′44.47″ N., 072°38′37.88″ W. (NAD 83).
7.10 City of New Haven Fireworks | • Date: July 4.
| • Rain date: July 5.
| • Time: 8:30 p.m. to 10:30 p.m.
| • Location: Waters of New Haven Harbor, off Long Warf Park, New Haven, CT in approximate position 41°17′24″ N., 072°54′55.8″ W. (NAD 83).
7.11 City of Norwich July Fireworks | • Date: July 4.
| • Rain date: July 5.
| • Time: 8:30 p.m. to 10:30 p.m.
| • Location: Waters of the Thames River, Norwich, CT in approximate position, 41°31′16.835″ N., 072°04′43.327″ W. (NAD 83).
7.12 City of Stamford Fireworks | • Date: July 4.
| • Rain date: July 5.
| • Time: 8:30 p.m. to 10:30 p.m.
| • Location: Waters of Fisher's Westcott Cove, Stamford, CT in approximate position 41°02′09.56″ N., 073°30′57.76″ W. (NAD 83).
7.13 City of West Haven Fireworks | • Date: July 4.
| • Rain date: July 5.
| • Time: 8:30 p.m. to 10:30 p.m.
| • Location: Waters of New Haven Harbor, off Bradley Point, West Haven, CT in approximate position 41°15′07″ N., 072°57′26″ W. (NAD 83).
7.14 CDM Chamber of Commerce Annual Music Fest Fireworks | • Date: July 4.
| • Rain date: July 5.
| • Time: 8:30 p.m. to 10:30 p.m.
| • Location: Waters off Cedar Beach Town Park, Mount Sinai, NY in approximate position 40°57′59.58″ N., 073°01′57.87″ W. (NAD 83).
7.15 Davis Park Fireworks | • Date: July 4.
| • Rain date: July 5.
| • Time: 8:30 p.m. to 10:30 p.m.
| • Location: Waters of the Great South Bay, Davis Park, NY in approximate position, 40°41′17″ N., 073°00′20″ W. (NAD 83).
7.16 Fairfield Aerial Fireworks | • Date: July 4.
| • Rain date: July 5.
| • Time: 8:30 p.m. to 10:30 p.m.
| • Location: Waters of Jennings Beach, Fairfield, CT in approximate position 41°08′22″ N., 073°14′02″ W. (NAD 83).
7.17 Fund in the Sun Fireworks | • Date: July 4.
| • Rain date: July 5.
| • Time: 8:30 p.m. to 10:30 p.m.
| • Location: Waters of the Great South Bay off The Pines, East Fire Island, NY in approximate position 40°40′07.43″ N., 073°04′13.88″ W. (NAD 83).
7.18 Independence Day Celebration Fireworks | • Date: July 4.
| • Rain date: July 5.
| • Time: 8:30 p.m. to 10:30 p.m.
| • Location: Waters off Umbrella Beach, Montauk, NY in approximate position 41°01′44″ N., 071°57′13″ W. (NAD 83).
7.19 Jones Beach State Park Fireworks | • Date: July 4.
| • Rain date: July 5.
| • Time: 8:30 p.m. to 10:30 p.m.
| • Location: Waters off Jones Beach State Park, Wantagh, NY in approximate position 40°34′56.676″ N., 073°30′31.186″ W. (NAD 83).
7.20 Madison Cultural Arts Fireworks | • Date: July 4.
| • Rain date: July 5.
| • Time: 8:30 p.m. to 10:30 p.m.
| • Location: Waters of Long Island Sound off Madison, CT in approximate position 41°16′10″ N., 072°36′30″ W. (NAD 83).
7.21 Mason's Island Yacht Club Fireworks | • Date: July 4.
| • Rain date: July 5.
| • Time: 8:30 p.m. to 10:30 p.m.
| • Location: Waters of Fisher's Island Sound, Noank, CT in approximate position 41°19′30.61″ N., 071°57′48.22″ W. (NAD 83).
7.22 Patchogue Chamber of Commerce Fireworks | • Date: July 4.
| • Rain date: July 5.
| • Time: 8:30 p.m. to 10:30 p.m.
| • Location: Waters of the Great South Bay, Patchogue, NY in approximate position, 40°44′38″ N., 073°00′33″ W. (NAD 83).
7.23 Riverfest Fireworks | • Date: July 4.
| • Rain date: July 5.
| • Time: 8:30 p.m. to 10:30 p.m.
| • Location: Waters of the Connecticut River, Hartford, CT in approximate positions, 41°45′39.93″ N., 072°39′49.14″ W. (NAD 83).
7.24 Village of Asharoken Fireworks | • Date: July 4.
| • Rain date: July 5.
| • Time: 8:30 p.m. to 10:30 p.m.
| • Location: Waters of Northport Bay, Asharoken, NY in approximate position, 41°55′54.04″ N., 073°21′27.97″ W. (NAD 83).
7.25 Village of Port Jefferson Fourth of July Celebration Fireworks | • Date: July 4.
| • Rain date: July 5.
| • Time: 8:30 p.m. to 10:30 p.m.
| • Location: Waters of Port Jefferson Harbor, Port Jefferson, NY in approximate position 40°57′10.11″ N., 073°04′28.01″ W. (NAD 83).
7.26 Village of Quoque Foundering Anniversary Fireworks | • Date: July 4.
| • Rain date: July 5.
| • Time: 8:30 p.m. to 10:30 p.m.
| • Location: Waters of Quantuck Bay, Quoque, NY in approximate position 40°48′42.99″ N., 072°37′20.20″ W. (NAD 83).
7.27 City of Long Beach Fireworks | • Location: Waters off Riverside Blvd., City of Long Beach, NY in approximate position 40°34′38.77″ N., 073°39′41.32″ W. (NAD 83).
7.28 Great South Bay Music Festival Fireworks | • Location: Waters of Great South Bay, off Bay Avenue, Patchogue, NY in approximate position 40°44′45″ N., 073°00′25″ W. (NAD 83).
7.29 Mashantucket Pequot Fireworks | • Location: Waters of the Thames River, New London, CT in approximate positions Barge 1, 41°21′03.03″ N., 072°5′24.5″ W. Barge 2, 41°20′51.75″ N., 072°5′18.90″ W. (NAD 83).
7.30 Shelter Island Fireworks | • Location: Waters of Gardiner Bay, Shelter Island, NY in approximate position 41°04′39.11″ N, 072°22′01.07″ W (NAD 83).
7.31 Clam Shell Foundation Fireworks | • Location: Waters of Three Mile Harbor, East Hampton, NY in approximate position 41°1′15.49″ N., 072°11′27.50″ W. (NAD 83).
7.32 Town of North Hempstead Bar Beach Fireworks | • Location: Waters of Hempstead Harbor, North Hempstead, NY in approximate position 40°49′54″ N., 073°39′14″ W. (NAD 83).
7.33 Groton Long Point Yacht Club Fireworks | • Location: Waters of Long Island Sound, Groton, CT in approximate position 41°18′05″ N., 072°02′08″ W. (NAD 83).
7.34 Devon Yacht Club Fireworks | • Date: A day during the first week of July.
| • Location: Waters of Napeague Bay, in Block Island Sound off Amagansett, NY in approximate position 40°59′41.40″ N., 072°06′08.70″ W. (NAD 83).
7.35 Dolan Family Fourth Fireworks | • Date: July 4.
| • Rain date: July 5.
| • Location: Waters of Oyster Bay Harbor in Long Island Sound off Oyster Bay, NY in approximate position 40°53′42.50″ N., 073°30′04.30″ W. (NAD 83).
7.36 Friar's Head Golf Club Fireworks | • Date: A day during the first two weeks of July.
| • Location: Waters of Long Island Sound off Baiting Hollow, NY in approximate position, 40°58′19.53″ N., 072°43′45.65″ W. (NAD 83).
7.37 Islip Fireworks | • Date: July 4.
| • Rain date: July 5.
| • Location: Waters of the Great South Bay off Bay Shore Manor Park, Islip, NY in approximate position 40°42′24″ N., 073°14′24″ W. (NAD 83).
7.38 Madison Fireworks | • Date: July 4.
| • Rain date: The Saturday following July 4.
| • Location: Waters of Long Island Sound off Madison Beach, Madison, CT in approximate position 41°16′03.93″ N., 072°36′15.97″ W. (NAD 83).
7.39 Stratford Fireworks | • Date: July 3.
| • Rain date: July 5.
| • Location: Waters of Long Island Sound surrounding Short Beach Park, Stratford, CT in approximate position 41°09′50.82″ N., 073°06′47.13″ W. (NAD 83).
7.40 Rowayton Fireworks | • Date: July 4.
| • Rain date: July 5.
| • Location: Waters of Long Island Sound south of Bayley Beach Park, Rowayton, CT in approximate position 41°03′11″ N., 073°26′41″ W. (NAD 83).
7.41 Niantic Bay Fireworks | • Date: A day during the first three weeks of July.
| • Location: Waters of Niantic Bay 1,500 feet west of the Niantic River Railroad Bridge, Niantic, CT in approximate position 41°19′22.59″ N., 072°11′03.47″ W. (NAD 83).
7.42 Connetquot River Summer Fireworks | • Date: A day during the first week of July.
| • Location: Waters of the Connetquot River off Snapper Inn Restaurant, Oakdale, NY in approximate position 40°43′32.38″ N., 073°9′02.64″ W. (NAD 83).
7.43 North Bay Fourth of July Fireworks | • Date: July 4.
| • Rain date: July 5.
| • Location: Waters of the Great South Bay in Patchogue Bay 4,000 feet southeast of Blue Point, NY in approximate position 40°44′6.28″ N., 073°01′02.50″ W. (NAD 83).
7.44 National Golf Links Fireworks | • Date: A day during the first week of July.
| • Location: Waters of the Great Peconic Bay ¾ of a mile northwest of Bullhead Bay, Shinnecock, NY in approximate position 40°55′11.79″ N., 072°28′04.34″ W. (NAD 83).
7.45 Xirinachs Family Foundation Fireworks | • Date: A day during the first two weekends of July.
| • Location: Waters of Hunting Bay off Beach Avenue, Huntington Bay, NY in approximate position 40°54′23.27″ N., 73°25′08.04″ W. (NAD 83).
7.46 Irwin Family 4th of July | • Date: A day during the last week of June or first week of July.
| • Location: Waters of the Great South Bay off The Helm Road, East Islip, NY in approximate position 40°42′12.28″ N., 73°12′00.08″ W. (NAD 83).
7.47 Westbrook July Celebration | • Date: A day during the last week of June or first week of July.
| • Location: Waters of Long Island Sound Westbrook Harbor, West Brook, CT in approximate position 41°16′10″ N., 72°26′14″ W. (NAD 83).
7.48 Bridgeport Bluefish July Fireworks | • Location: Waters of the Pequannock River's Lower Reach surrounding Steel Point, Bridgeport, CT in approximate position 41°10′35″ N., 073°10′58″ W. (NAD 83).
8 | August
8.1 Village of Bellport Fireworks | • Location: Waters of Bellport Bay, off Bellport Dock, Bellport, NY in approximate position 40°45′01.83″ N., 072°55′50.43″ W. (NAD 83).
8.2 Taste of Italy Fireworks | • Location: Waters of Norwich Harbor, off Norwich Marina, Norwich, CT in approximate position 41°31′17.72″ N., 072°04′43.41″ W. (NAD 83).
8.3 Old Black Point Beach Association Fireworks | • Location: Waters off Old Black Point Beach, East Lyme, CT in approximate position, 41°17′34.9″ N., 072°12′55″ W. (NAD 83).
8.4 Town of Babylon Fireworks | • Location: Waters off of Cedar Beach Town Park, Babylon, NY in approximate position 40°37′53″ N., 073°20′12″ W. (NAD 83).
8.5 Shelter Island Yacht Club Fireworks | • Date: The second Saturday of August.
| • Rain date: The second Sunday of August.
| • Location: Waters of Dering Harbor north of Shelter Island Yacht Club, Shelter Island, NY in approximate position 41°05′23.47″ N., 072°21′11.18″ W. (NAD 83).
8.6 Stamford Fireworks | • Date: The last Saturday of August.
| • Rain date: The last Sunday of August.
| • Location: Waters of Stamford Harbor, off Kosciuszco Park, Stamford, CT in approximate position 41°01′48.46″ N., 073°32′15.32″ W. (NAD 83).
8.7 Nikon Theater at Jones Beach Fireworks | • Date: A day during the first two weeks of August.
| • Location: Waters of Zacks Bay off the Nikon Theater, Jones Beach, NY in approximate position 40°36′02.12″ N., 073°30′05.65″ W. (NAD 83).
8.8 Ascension Fireworks | • Date: A day during the third or fourth weekend of August.
| • Location: Waters of the Great South Bay off The Pines, East Fire Island, NY in approximate position 40°40′07.43″ N., 073°04′13.88″ W. (NAD 83).
8.9 Bridgeport Bluefish August Fireworks | • Location: Waters of the Pequannock River's Lower Reach surrounding Steel Point, Bridgeport, CT in approximate position 41°10′35″ N., 073°10′58″ W. (NAD 83).
9 | September
9.1 East Hampton Fire Department Fireworks | • Location: Waters off Main Beach, East Hampton, NY in approximate position 40°56′40.28″ N., 072°11′21.26″ W. (NAD 83).
9.2 Town of Islip Labor Day Fireworks | • Location: Waters of Great South Bay off Bay Shore Marina, Islip, NY in approximate position 40°42′24″ N., 073°14′24″ W. (NAD 83).
9.3 Village of Island Park Labor Day Celebration Fireworks | • Location: Waters off Village of Island Park Fishing Pier, Village Beach, NY in approximate position 40°36′30.95″ N., 073°39′22.23″ W. (NAD 83).
9.4 The Creek Fireworks | • Date: A day during the first week of September.
| • Location: Waters of Long Island Sound off the Creek Golf Course, Lattingtown, NY in approximate position 40°54′13″ N., 073°35′58″ W. (NAD 83).
9.5 Archangel Michael Greek Orthodox Church Fireworks | • Date: A day during the last week of September or first week of October.
| • Location: Waters of Hempstead Harbor off Bar Beach Town Park, Port Washington, NY in approximate position 40°49′42″ N., 073°39′07″ W. (NAD 83).
9.6 Port Washington Sons of Italy Fireworks | • Location: Waters of Hempstead Harbor off Bar Beach, North Hempstead, NY in approximate position 40°49′48.04″ N., 073°39′24.32″ W. (NAD 83).
9.7 Bridgeport Bluefish September Fireworks | • Location: Waters of the Pequannock River's Lower Reach surrounding Steel Point, Bridgeport, CT in approximate position 41°10′35″ N., 073°10′58″ W. (NAD 83).
11 | November
11.1 Charles W. Morgan Anniversary Fireworks | • Date: A day during the first or second weekend of November.
| • Location: Waters of the Mystic River, north of the Mystic Seaport Light, Mystic, CT in approximate position 41°21′56.455″ N., 071°57′58.32″ W. (NAD 83).
11.2 Christmas Boat Parade Fireworks | • Location: Waters of Patchogue Bay off Lombardi's on the Bay Restaurant, Patchogue, NY in approximate position 40°44′39.18″ N., 073°00′37.80″ W. (NAD 83).
11.3 Connetquot River Fall Fireworks | • Location: Waters of the Connetquot River off Snapper Inn Restaurant, Oakdale, NY in approximate position 40°43′32.38″ N., 073°09′02.64″ W. (NAD 83).
12 | December
12.1 Greenport Winter Fireworks | • Date: From 11:45 p.m. December 31 until 12:30 a.m. January 1.
| • Location: Waters of Greenport Harbor off Mitchell Park and Marina, Greenport, NY, in approximate position 41°05′59.09″ N., 072°21′31.44″ W. (NAD 83).

* * * * *

§ 165.813 [Amended]

175. In § 165.813(b)(5), after the text “or via phone at” remove the text “(713) 671-5103” and add, in its place, the text “281-464-4837”.

§ 165.814 [Amended]

176. In § 165.814(b)(3), after the text “or by phone at”, remove the text “(713) 671-5103”, and add, in its place, the text “281-464-4837”.

§ 165.1201 [Redesignated as § 165.1188]

177. Redesignate § 165.1201 as § 165.1188.

178. Revise the section heading of § 165.1319 to read as follows:

§ 165.1319 Seafair Air Show Performance, Seattle, WA.

* * * * *

PART 167—OFFSHORE TRAFFIC SEPARATION SCHEMES

179. The authority citation for part 167 continues to read as follows:

Authority: 33 U.S.C. 1223; Department of Homeland Security Delegation No. 0170.0.

180. Revise § 167.1322(b)(8) to read as follows:

§ 167.1322 In Puget Sound and its approaches: Approaches to Puget Sound other than Rosario Strait.

* * * * *

(b) * * *

(8) Precautionary area “ND,” which is bounded by a line connecting the following geographical positions:

Latitude | Longitude
48°11.00′ N | 123°06.58′ W.
48°17.15′ N | 123°06.57′ W.
48°14.27′ N | 123°13.41′ W.
48°12.34′ N | 123°18.01′ W.
48°12.72′ N | 123°25.34′ W.
48°11.24′ N | 123°23.82′ W.
48°10.82′ N | 123°25.44′ W.
48°09.42′ N | 123°24.24′ W.
48°08.39′ N | 123°24.24′ W.

Thence along the shoreline to the point of beginning (48°11.00′ N.; 123°06.58′ W.).

* * * * *

PART 169—SHIP REPORTING SYSTEMS

181. The authority citation for part 169 continues to read as follows:

Authority: 33 U.S.C. 1230(d), 1231; 46 U.S.C. 70115, Department of Homeland Security Delegation No. 0170.1.

§ 169.15 [Amended]

182. In § 169.15(a), following the text “Also, it is available for inspection at”, remove the text “the Coast Guard, Office of Navigation Systems (CG-5532), 2100 2nd St. SW., Stop 7580, Washington, DC 20593-7580, and is” and add, in its place, the text “Coast Guard Headquarters. Contact Commandant (CG-NAV), Attn: Office of Navigation Systems, 2703 Martin Luther King Jr. Avenue SE., Stop 7418, Washington, DC 20593-7418, and is.”.

PART 174—STATE NUMBERING AND CASUALTY REPORTING SYSTEMS

183. The authority citation for part 174 continues to read as follows:

Authority: 46 U.S.C. 6101 and 12302; Department of Homeland Security Delegation No. 0170.1 (92).

§ 174.7 [Amended]

184. In § 174.7, following the text “numbering system or revision to”, remove the text “Office of Auxiliary and Boating Safety (CG-542), 2100 2nd St. SW., Stop 7581, Washington, DC 20593-7581” and add, in its place, the text “Commandant (CG-BSX), Attn: Office of Auxiliary and Boating Safety, U.S. Coast Guard Stop 7501, 2703 Martin Luther King Jr. Avenue SE., Washington, DC 20593-7501”.

§ 174.121 [Amended]

185. In § 174.121, remove the text “Commandant (CG-5422), U.S. Coast Guard, 2100 Second St. SW., Stop 7581, Washington, DC 20593-7581” and add, in its place, the text “Commandant (CG-BSX-2), Attn: Boating Safety Division, U.S. Coast Guard Stop 7501, 2703 Martin Luther King Jr. Avenue SE., Washington, DC 20593-7501”.

§ 174.125 [Amended]

186. In § 174.125, remove the text “Commandant (CG-5422), U.S. Coast Guard, 2100 Second St. SW., Stop 7581, Washington, DC 20593-7581” and add, in its place, the text “Commandant (CG-BSX-2), Attn: Boating Safety Division, U.S. Coast Guard Stop 7501, 2703 Martin Luther King Jr. Avenue SE., Washington, DC 20593-7501”.

PART 179—DEFECT NOTIFICATION

187. The authority citation for part 179 is revised to read as follows:

Authority: 43 U.S.C. 1333; 46 U.S.C. 4302, 4307, 4310, and 4311; Pub. L. 103-206, 107 Stat. 2439; 49 CFR 1.46.

§ 179.19 [Amended]

188. Amend § 179.19 as follows:

a. In paragraph (a), following the text “must be submitted to”, remove the text “Commandant (CG-54223), 2100 2nd St. SW., Stop 7581, Washington, DC 20593-7581” and add, in its place, the text “Commandant (CG-BSX-23), Attn: Recreational Boating Product Assurance Branch, U.S. Coast Guard Stop 7501, 2703 Martin Luther King Jr. Avenue SE., Washington, DC 20593-7501”; and

b. In paragraph (b), following the text “must be submitted to”, remove the text “Commandant (CG-5214), 2100 2nd St. SW., Stop 7126, Washington, DC 20593-7126” and add, in its place, the text “Commandant (CG-ENG-4), Attn: Lifesaving and Fire Safety Division, U.S. Coast Guard Stop 7509, 2703 Martin Luther King Jr. Avenue SE., Washington, DC 20593-7509”.

PART 181—MANUFACTURER REQUIREMENTS

189. The authority citation for part 181 continues to read as follows:

Authority: 46 U.S.C. 4302; Department of Homeland Security Delegation No. 0170.1 (92).

§ 181.4 [Amended]

190. In § 181.4(a), following the text “available for inspection at the”, remove the text “Lifesaving and Fire Safety Standards Division (CG-5214), 2100 2nd St. SW., Stop 7126, Washington, DC 20593-7126, and” and add, in its place, the text “Coast Guard Headquarters. Contact Commandant (CG-ENG-4), Attn: Lifesaving and Fire Safety Division, U.S. Coast Guard Stop 7509, 2703 Martin Luther King Jr. Avenue SE., Washington, DC 20593-7509. It is also available”.

§ 181.31 [Amended]

191. Amend § 181.31 as follows:

a. In paragraph (a), following the text “code in writing from the”, remove the text “Commandant (CG-54223), 2100 Second St. SW., Stop 7581, Washington, DC 20593-7581” and add, in its place, the text “Commandant (CG-BSX-23), Attn: Recreational Boating Product Assurance Branch, U.S. Coast Guard Stop 7501, 2703 Martin Luther King Jr. Avenue SE., Washington, DC 20593-7501”; and

b. In paragraph (b), following the text “system, write to the”, remove the text “Commandant (CG-54223), 2100 Second St. SW., Stop 7581, Washington, DC 20593-7581” and add, in its place, the text “Commandant (CG-BSX-23), Attn: Recreational Boating Product Assurance Branch, U.S. Coast Guard Stop 7501, 2703 Martin Luther King Jr. Avenue SE., Washington, DC 20593-7501”.

§ 181.33 [Amended]

192. In § 181.33(b), remove the text “Recreational Boating Product Assurance Branch (CG-54223), 2100 2nd St. SW., Stop 7581, Washington, DC 20593-7581” and add, in its place, the text “Commandant (CG-BSX-23), Attn: Recreational Boating Product Assurance Branch, U.S. Coast Guard Stop 7501, 2703 Martin Luther King Jr. Avenue SE., Washington, DC 20593-7501”.

PART 183—BOATS AND ASSOCIATED EQUIPMENT

193. The authority citation for part 183 continues to read as follows:

Authority: 46 U.S.C. 4302; Pub. L. 103-206, 107 Stat. 2439; 49 CFR 1.46.

§ 183.5 [Amended]

194. Amend § 183.5 as follows:

a. In paragraph (a), following the text “available for inspection at the”, remove the text “Recreational Boating Product Assurance Branch (CG-54223), 2100 2nd St. SW., Stop 7581, Washington, DC 20593-7581, and” and add, in its place, the text “Coast Guard Headquarters. Contact Commandant (CG-BSX-23), Attn: Recreational Boating Product Assurance Branch, U.S. Coast Guard Stop 7501, 2703 Martin Luther King Jr. Avenue SE., Washington, DC 20593-7501. It is also available”; and

b. In paragraph (b), in the table, remove the text “American Boat and Yacht Council, Inc., 3069 Solomons Island Road, Edgewater, Maryland 21037-1416” and add, in its place, the text “American Boat and Yacht Council, Inc., 613 Third Street Suite 10, Annapolis, MD 21403”; and remove the text “Naval Publications Forms Center, Customer Service—Code 1052, 5801 Tabor Avenue, Philadelphia, PA 19120” and add, in its place, the text “Military Specifications and Standards, Standardization Documents Order Desk, Building 4D, 700 Robbins Avenue, Philadelphia, PA 19111-5094; https://assist.daps.dla.mil/quicksearch/”.

§ 183.607 [Amended]

195. In § 183.607(a) introductory text, remove the text “Coast Guard Headquarters, 2100 2nd St. SW., Stop 7000, Washington, DC 20593-7000 and” and add, in its place, the text “Coast Guard Headquarters. Contact Commandant (CG-BSX-23), Attn: Recreational Boating Product Assurance Branch, U.S. Coast Guard Stop 7501, 2703 Martin Luther King Jr. Avenue SE., Washington, DC 20593-7501. It is also available”.

Dated: June 18, 2014.
Katia Cervoni,
Chief, Office of Regulations and Administrative Law, U.S. Coast Guard.

[FR Doc. 2014-14897 Filed 7-3-14; 8:45 am]

BILLING CODE 9110-04-P